DEPARTMENT OF THE INTERIOR

National Park Service

[NPS-IMR-YELL-13706; PPWONRADE2, PMP00EI05.YP0000]

36 CFR Part 7

RIN 1024-AE15

Special Regulations; Areas of the National Park System; Yellowstone National Park; Winter Use

AGENCY: National Park Service, Interior.

ACTION: Final rule.

SUMMARY: The National Park Service is promulgating this rule to establish a management framework that allows the public to experience the unique winter resources and values at Yellowstone National Park. This rule includes provisions that allow greater flexibility for commercial tour operators, provide mechanisms to make the park cleaner and quieter than what has been allowed during the previous four winter seasons, reward oversnow vehicle innovations and technologies, and allow increases in visitation. It also requires snowmobiles and snowcoaches operating in the park to meet air and sound emission requirements and be accompanied by a guide.

DATES: This rule is effective November 22, 2013.

FOR FURTHER INFORMATION CONTACT: Wade Vagias, Management Assistant's Office, Headquarters Building, Yellowstone National Park, 307-344-2035.

SUPPLEMENTARY INFORMATION:

Executive Summary

This rule establishes a new and more flexible method for managing oversnow vehicle (OSV) access to the park.

Under 36 CFR 2.18(c), the use of snowmobiles is prohibited in parks unless a special regulation allowing such use is promulgated. In order to allow OSV use for the upcoming and future winter seasons, a special regulation must be in place. This rule authorizes snowmobile and snowcoach use.

Beginning with the 2014-2015 winter season, this rule replaces the former concept of a fixed maximum number of vehicles allowed in the park each day with a new, more flexible concept of transportation events. Within an allowable number of transportation events, commercial tour operators have the opportunity to combine snowcoach and snowmobile trips in a way that protects park resources and provides flexibility to respond to fluctuations in visitation demand. By relying upon user demand to determine the best mix of OSV use and focusing on the impacts of OSV use upon park resources, the transportation event concept strikes a common-sense balance between allowing adequate access and protecting park resources. This rule also requires snowmobiles and snowcoaches to meet new sound and air emissions standards established by the National Park Service (NPS) under the authority granted by the NPS Organic Act (16 U.S.C. 1 et seq.), which authorizes the Secretary of the Interior to “promote and regulate” the use of national parks.

The new approach allows commercial tour operators to exchange transportation event allocations within the same entrance, adjust the proportion of snowcoaches or snowmobiles in the park each day, increase the size of snowmobile groups to meet demand on peak days, and increase the vehicle group size per transportation event if voluntary enhanced emission standards are met.

Some specific key elements of the final rule include:

• A transportation event equals one group of snowmobiles (maximum group size of 10, seasonal average of 7 beginning in the 2015-2016 season) or one snowcoach. The group size of transportation events may increase from a seasonal average of 7 to 8 for snowmobiles and from a maximum of 1 to 2 for snowcoaches, not to exceed a seasonal average of 1.5 snowcoaches, if commercial tour operators use vehicles that meet voluntary enhanced emission standards. This is intended to encourage the adoption of improved OSV innovations and technologies.

• Up to 110 total transportation events are authorized each day. Commercial tour operators may decide whether to use their daily allocation for snowmobiles or snowcoaches, but no more than 50 transportation events each day may be comprised of snowmobiles.

• OSV use continues to be 100% guided. The rule allows up to 46 commercially guided snowmobile transportation events per day. Four non-commercially guided snowmobile transportation events of up to 5 snowmobiles per group are also permitted daily, one from each park entrance.

• Sound and air emission requirements for new and existing snowmobiles continue unchanged until the 2015-2016 winter season, when the maximum allowable sound and carbon monoxide (CO) emissions are lowered.

• Sound and air emission requirements begin in the 2016-2017 winter season for existing snowcoaches, and apply to all new snowcoaches brought into service starting in the 2014-2015 winter season.

Background

The National Park Service (NPS) has been managing winter use in Yellowstone National Park for several decades. A detailed history of the winter use issue, past planning efforts, and litigation is provided in the background section of the 2013 Final Winter Use Plan/Supplemental Environmental Impact Statement (Plan/SEIS). The Notice of Availability for the Plan/SEIS was published in the Federal Register on March 15, 2013 (78 FR 16500). The Plan/SEIS is available online at http://parkplanning.nps.gov/yell, by clicking on the link entitled “2012/2013 Supplemental Winter Use Plan EIS,” and then clicking on the link entitled “Document List.” Additional information about the history of winter use at Yellowstone National Park is available online at http://www.nps.gov/yell/planyourvisit/winteruse.htm.

The park has most recently operated under an interim winter use rule that was originally in effect for the 2009-2010 and 2010-2011 winter seasons. The interim rule allowed up to 318 commercially guided snowmobiles and 78 commercially guided snowcoaches in the park per day. Due to a number of factors, the NPS extended the interim rule twice, through the 2011-2012 and 2012-2013 winter seasons, while a Winter Use Plan/Final Environmental Impact Statement (EIS) and the Plan/SEIS were completed to determine a long-term management strategy for winter use in Yellowstone National Park.

Implementing this long-term winter use rule creates a stable regulatory environment for snowmobile and snowcoach commercial tour operators, many of which are small businesses in the communities surrounding the park. This long-term rule allows these businesses to make prudent decisions and capital investments, such as investing in new and cleaner-running vehicles for their fleets, offering employment to area residents, preparing advertising and marketing materials, and purchasing equipment and accessories such as snowmobile suits, helmets, and boots. This long-term rule also provides certainty to visitors, allowing them to make advance plans to visit the park, and ensures that park resources are protected.

Final Plan/SEIS and the Preferred Alternative

The Plan/SEIS analyzed the issues and environmental impacts of four alternatives for the management of winter use in the park. Major issues analyzed in the Plan/SEIS include social and economic issues, human health and safety, wildlife, air quality, natural soundscapes, visitor use and experience, and park operations. Impacts associated with each of the alternatives are detailed in the Plan/SEIS, which is available online at http://parkplanning.nps.gov/yell, by clicking on the link entitled “2012/2013 Supplemental Winter Use Plan EIS” and then clicking on the link entitled “Document List.”

Alternative 1, the no-action alternative, would prohibit public OSV use in Yellowstone but would allow for approved non-motorized use to continue. Alternative 1 has been identified as the environmentally preferable alternative. Alternative 2 would manage OSV use at the same levels as the interim rule (318 commercially guided snowmobiles and 78 snowcoaches per day). Alternative 3 would initially allow for the same level of use as Alternative 2 (318 commercially guided snowmobiles and 78 snowcoaches per day) but would transition to allowing only snowcoaches over a 3-year period beginning in the 2017-2018 winter season. Upon completing the transition, there would be zero snowmobiles and up to 120 snowcoaches per day in the park. The Plan/SEIS also describes several other alternatives that were considered but eliminated from further study.

The Plan/SEIS identified Alternative 4 as the preferred alternative. The NPS Intermountain Regional Director signed a Record of Decision on August 21, 2013 and an amended Record of Decision on September 27, 2013 identifying Alternative 4 as the Selected Alternative, which this rule implements. Alternative 4 provides for motorized winter use while protecting park resources. Traveling through the park on snowmobiles and snowcoaches allows visitors to experience and access the park's unique and stunning winter landscape and access areas that cannot be reached using non-motorized means of transportation. The NPS believes that, through proper management, motorized winter use is an appropriate activity in the park.

The Selected Alternative:

• Manages OSV use by transportation events, prescribes air and sound emission requirements, and continues the 100% guiding requirement to help ensure that the purpose and need for the Plan/SEIS are met. This allows for increases in visitation while making the park cleaner and quieter than what has been allowed under the interim rule, as well as reducing disturbances to wildlife.

• Requires snowmobiles and snowcoaches to meet new air and sound emission requirements and encourages commercial tour operators to meet voluntary enhanced emission standards by adopting improved vehicle innovations and technologies.

• Contains market-based elements that give commercial tour operators greater flexibility to respond to fluctuations in visitation demand during the winter season. The Selected Alternative allows commercial tour operators to exchange transportation event allocations within the same entrance, adjust the proportion of snowcoaches or snowmobiles in the park each day (a transportation event could be used for either snowmobiles or snowcoaches, but no more than 50 transportation events each day could come from snowmobiles), increase the size of snowmobile groups on peak days, and increase the size of transportation events if voluntary enhanced emission standards are met.

• Demonstrates the NPS commitment to monitor winter use and to use the results to adjust the winter use OSV management program. The results of past monitoring, including data regarding air quality, wildlife, soundscapes, and health and safety, were used in formulating the alternatives in the Plan/SEIS.

• Applies the lessons of the last several winters, which demonstrate, among other things, that requiring all snowmobile and snowcoach trips to be guided reduces accidents, law enforcement incidents, and disruption to wildlife, and offers the best opportunity for achieving the goals of protecting park resources and allowing balanced use of the park.

Summary of the Final Rule

Snowmobile and snowcoach use in Yellowstone National Park is referred to as oversnow vehicle or OSV use. The final rule is similar in many respects to plans and rules that have been in effect for the last eight winter seasons. Thus, many of the regulations regarding operating conditions, designated routes, and restricted hours of operation are similar to regulations enforced by the NPS for nearly a decade.

One notable difference is that the final rule manages OSV use by transportation events instead of placing fixed limits on the number of OSVs allowed in the park on each day of the winter season. Managing OSV use by transportation events gives snowcoach and snowmobile commercial tour operators greater flexibility, allows for higher numbers of visitors, and is designed to make the park cleaner and quieter than what has been allowed during the previous four winter seasons. Under the final rule, up to 110 transportation events are allowed in the park on any day during the winter season. A transportation event equals one group of snowmobiles (maximum group size of 10, seasonal average of 7 beginning in the 2015-2016 season) or one snowcoach. The group size of transportation events may increase from a seasonal average of 7 to 8 for snowmobiles and from a maximum of 1 to 2 for snowcoaches, not to exceed a seasonal average of 1.5 snowcoaches, if commercial tour operators use vehicles that meet voluntary enhanced emission standards. Commercial tour operators may decide whether to use their allocation of transportation events for snowmobiles or snowcoaches, but no more than 50 transportation events may consist of snowmobiles on any day.

The final rule also changes air and sound emission requirements for OSVs, to reduce impacts on park resources and help ensure that the impacts from snowmobile and snowcoach transportation events are comparable. Managing OSV use by transportation events represents a shift from an approach focused on the absolute number of vehicles allowed in the park to an approach focused on the impacts of those vehicles upon park resources. The NPS believes this will:

• Result in a cleaner and quieter park than what has been authorized under the previous four winter seasons, enhance visitor experience, and permit growth in the number of visitors able to experience the park;

• Give commercial tour operators greater flexibility;

• Reward OSV innovations, adoption of new technologies, and commitment to lowering impacts from OSVs;

• Create more extended periods of limited or no OSV-related impacts; and

• Potentially result in an increase in vehicles and visitors without increasing impacts on the park.

Another notable difference in the final rule concerns guiding requirements for snowmobiles. Although the final rule maintains the existing requirement that all snowmobile trips be guided, it reserves four snowmobile transportation events each day for groups of non-commercially guided snowmobiles. All snowmobile operators taking part in a non-commercially guided trip must comply with requirements under a Non-commercially Guided Snowmobile Access Program to be developed by the NPS before the start of the 2014-2015 winter season.

Phased Transition To New Management Paradigm

The new management paradigm under the final rule will be phased in over four winter seasons to provide the park and commercial tour operators sufficient time to adjust to the new emission requirements and the management of OSVs by transportation events.

Phase I (2013-2014 Season)

A one-season transition period to prepare for the implementation of the new winter use plan will be in place for the 2013-2014 winter season to allow time for the NPS to award concession contracts and for commercial tour operators to prepare for the shift to management by transportation events. During this transition period, provisions of the 2012-2013 interim plan will be extended, allowing up to 318 snowmobiles and 78 snowcoaches per day for the first year of the new plan only.

Phase II (2014-2015 and 2015-2016 Seasons)

Starting in the 2014-2015 winter season, the park will manage OSV use by transportation events instead of vehicle limits. Sound and air emission requirements will apply to all new snowcoaches brought into service starting in the 2014-2015 winter season. Commercial tour operators who are allocated snowmobile transportation events will be able to use their allocated transportation events for snowmobiles, snowcoaches, or a mix of both, as long as no more than 50 total transportation events come from snowmobiles on a given day. During the 2014-2015 and 2015-2016 winter seasons, in order to use a snowcoach in lieu of a snowmobile transportation event, the snowcoach will need to meet the air and sound emission requirements that apply to all snowcoaches beginning in the 2016-2017 season.

The average size of commercially guided snowmobile transportation events for the 2014-2015 winter season may not exceed 7 snowmobiles, averaged daily (i.e., a maximum of no more than 322 commercially guided snowmobiles in the park per day, and an additional 4 non-commercially guided transportation events per day not to exceed 5 snowmobiles each, for a total of no more than 342 snowmobiles). This limit will apply to any snowmobile transportation event that includes a snowmobile that does not meet the new air or sound emission requirements that will apply to all snowmobiles beginning in the 2015-2016 season. Commercial tour operators will be allowed to have up to 10 snowmobiles per single event, provided the average daily event size is 7 or less. For example, a commercial tour operator that is allocated 3 snowmobile transportation events per day could meet the daily average requirement through a combination of 3 snowmobile transportation events of 7 snowmobiles each, or 2 snowmobile transportation events of 8 snowmobiles each and 1 transportation event of 5 snowmobiles.

However, if commercial tour operators voluntarily upgrade their snowmobile fleets to meet the new air and sound emission standards (New Best Available Technology) during the 2014-2015 winter season (before these limits become mandatory in the 2015-2016 season), their group sizes will be more flexible. For commercial snowmobile tour operators who upgrade at least 10 snowmobiles in their fleets to the New Best Available Technology standards for snowmobiles, vehicle numbers will be averaged seasonally for transportation events that consist entirely of the upgraded snowmobiles. This allows commercial tour operators to have events with a maximum of 10 New Best Available Technology snowmobiles each, provided their seasonal transportation event size averages 7 or less. For example, a commercial tour operator that is allocated 3 snowmobile transportation events per day may have 3 groups of up to 10 snowmobiles each in a single day, provided there are smaller groups on other days during the winter season that bring the seasonal average group size to 7 or less. This incentive encourages voluntary early adoption of improved vehicle technologies that meet the New Best Available Technology emission requirements, and helps ensure that impacts to park resources during the 2014-2015 winter season are minimized.

Starting in the 2015-2016 winter season, all snowmobiles operating in the park must meet the new air and sound emission requirements. This is one season before air and sound emission requirements apply to all existing snowcoaches. This staggered implementation schedule recognizes the higher capital cost of investing in snowcoach engines and exhaust equipment and the fact that commercial tour operators replace snowmobile fleets more frequently than snowcoach fleets. In the proposed rule, the NPS requested comments on this accelerated implementation schedule. After considering public comments, the NPS believes that this accelerated implementation schedule is reasonably achievable given existing and demonstrated OSV technology. The NPS notes that the technology to meet the new air and sound emission standards for snowcoaches is currently available in the commercial marketplace, that at least 17 of the 78 snowcoaches in the commercial fleet already meet the new sound emission requirement and as many as 18 of the 78 snowcoaches in the commercial fleet already meet the new air emission requirement. For snowmobiles, one manufacturer has already certified to the NPS that it produces a model that meets the new air and sound emission requirements that will be mandatory beginning in the 2015-2016 season: The Bombardier Ski Doo GSX LE 900 ACE produces 90 g/kW-hr of CO, 8 g/kW-hr of HC (both FEL), and 69 dB(A) as measured via SAE J192 (forecasted to produce ~67 dB(A) as measured via SAE J1161). The NPS also notes that 36 different snowmobile models already meet the new air emission standards that will be mandatory beginning in the 2015-2016 season.

Phase III (2016-2017 Season and Beyond)

Starting with the 2016-2017 winter season, the final rule implements all elements of the new management paradigm, including a requirement that all OSVs, including vehicles that had been operating in the park during prior seasons, meet the new air and sound emission requirements or be removed from service in the park.

Voluntary Enhanced Best Available Technology Upgrade

In addition to the above opportunities and requirements, the final rule offers commercial tour operators an opportunity to voluntarily upgrade their fleets further and receive an additional OSV per transportation event. As of December 15, 2014, commercial tour operators may voluntarily upgrade their fleets to meet enhanced air and sound emission standards that are more stringent than the new mandatory air and sound emission requirements described below. If these voluntary enhanced standards are met, the size of a transportation event for that commercial tour operator may increase from a seasonal average of 7 to 8 snowmobiles per event and from 1 to 2 snowcoaches per event, not to exceed a seasonal average of 1.5 snowcoaches per event.

Monitoring Will Continue

As part of the NPS's Adaptive Management Program for winter use, monitoring of winter visitor use and park resources continues under this rule. The NPS may take adaptive management actions, including the closure of selected areas of the park or sections of roads, if monitoring indicates that human presence or activities have a substantial effect on wildlife or other park resources that cannot be mitigated. A list of adaptive management actions that may be taken by the NPS is provided in Appendix D to the Plan/SEIS. The NPS will provide public notice under one or more of the methods listed in 36 CFR 1.7 before any closure is implemented. The Superintendent retains the authority under this rule or 36 CFR 1.5 to take emergency actions to protect park resources or values.

Air Emission Requirements

Snowmobiles

The final rule retains the requirement from previous winter use plans that all snowmobiles operated by guides and park visitors comply with air emission standards. While the past seven years of monitoring has shown that air quality has improved following implementation of air emissions standards for snowmobiles, the NPS believes that implementation of new air emission standards for snowmobiles and snowcoaches will further improve air quality in the world's first national park (a designated Class I area under the Clean Air Act), and will help ensure that a snowmobile transportation event and a snowcoach transportation event have comparable impacts to air quality. The NPS believes that snowmobile and snowcoach commercial tour operators can meet the air emission requirements in the final rule through the typical turnover of their fleets,¹ and that the technology to meet the new air emission standards for both types of OSVs is currently available in the commercial marketplace.

¹ According to existing commercial tour operators, snowmobiles are replaced every two to three years and the lifespan of a converted snowcoach is ten years.

Air and sound emission requirements for snowmobiles and snowcoaches in Yellowstone National Park are park entrance requirements. The restrictions on air and sound emissions in this rule are not restrictions on what manufacturers may produce, but instead are end-use restrictions on which commercially produced snowmobiles and snowcoaches may be used in the park. The NPS Organic Act (16 U.S.C. 1) authorizes the Secretary of the Interior to “promote and regulate” the use of national parks “by such means and measures as conform to the fundamental purpose of said parks . . . which purpose is to conserve the scenery and the natural and historic objects and the wild life therein and to provide for the enjoyment of the same in such manner and by such means as will leave them unimpaired for the enjoyment of future generations.” Further, the Secretary is expressly authorized by 16 U.S.C. 3 to “make and publish such rules and regulations as he may deem necessary or proper for the use and management of the parks.” These requirements are not to be confused with Environmental Protection Agency (EPA) emission standards for these vehicles. The exercise of the NPS Organic Act authority is not an effort by NPS to regulate manufacturers and is consistent with Section 310 of the Clean Air Act (42 U.S.C. 7610).

During the late 1990s, when an average of 795 snowmobiles entered the park each day, elevated levels of carbon monoxide (CO), particulate matter (PM), and hydrocarbons (HC) were detected. To mitigate these emissions, the NPS implemented snowmobile air emission requirements beginning in 2004 that called for emission levels no greater than 120 grams per kilowatt hour (g/kW-hr) of CO and 15 g/kW-hr for HC. There are no emission requirements for PM because monitoring over the past several winter seasons has indicated that PM levels are extremely low and therefore not concerning at this time. The final rule maintains the existing air emission requirements through the 2014-2015 season, and then lowers the emission standard for CO to 90 g/kW-hr beginning with the 2015-2016 season. The requirements in place since December 2004 have significantly reduced CO, PM, and HC emissions. As compared to EPA baseline emissions assumptions for conventional two-stroke snowmobiles, the NPS air emission requirements have achieved a 70% reduction in CO and a 90% reduction in HC. Daily use limits and guiding (which helps assure use of NPS-certified snowmobiles and keeps idling to a minimum) have also improved air quality in the park.

All new snowmobiles manufactured for sale in the United States must be certified to EPA's emission standards. The NPS encourages each snowmobile manufacturer to demonstrate that its snowmobiles will meet the NPS air emission requirements by submitting to the NPS a copy of its EPA application (which includes the engine's Family Emissions Limits, i.e., the emission levels a given snowmobile is certified as meeting) used to demonstrate compliance with EPA's snowmobile emission regulation at the same time it submits the application to EPA. The NPS will accept the application and information from a manufacturer, while review and certification by EPA is pending, in support of the NPS conditionally certifying a snowmobile as meeting the NPS's emission requirements. Should EPA certify the snowmobile at emissions levels that do not meet the NPS requirements, this snowmobile model will no longer be considered NPS-compliant and its use in the park will be prohibited. If the NPS does not receive a request for conditional certification, the NPS will rely on the emission levels determined and certified by EPA to determine if an NPS certification is warranted.

Snowmobiles that have been modified from the manufactured design may increase emissions of HC and CO to greater than the emission restrictions, and therefore may not enter the park. It is the responsibility of the commercial tour operator and guide to ensure that a snowmobile complies with all applicable restrictions. Any snowmobile may be subject to periodic and unannounced inspections to measure tailpipe air emissions. To the extent possible, the NPS will conduct snowmobile inspections when it is mutually convenient for the operator and the NPS.

Snowmobiles operating on the Cave Falls Road, which extends approximately one mile into the park from the adjacent Caribou-Targhee National Forest, continue to be exempt from the air-emission requirements. The Cave Falls Road does not connect to other park roads and snowmobile use on this road is independent of the other oversnow routes in the park.

Snowcoaches

Under concessions contracts issued in 2003, 78 snowcoaches are currently authorized to operate in the park. Approximately 21 of these snowcoaches, known in the park as “historic snowcoaches,” were manufactured by Bombardier before 1983 and designed specifically for oversnow travel. These historic snowcoaches, and several late-model snowcoaches also designed specifically for oversnow travel, are considered purpose-built snowcoaches. All other snowcoaches are passenger vans, sport utility vehicles, or light- or medium-duty buses that have been converted for oversnow travel using tracks or skis. The conditions and requirements applicable to snowcoaches under the final rule apply to both purpose-built snowcoaches and snowcoaches converted from other types of vehicles.

In 2004, EPA began phasing in new and cleaner emissions standards for light-duty vehicles, light-duty trucks, and medium-duty passenger vehicles, and in 2008 for heavy duty spark and compression ignition vehicles (the vehicle classes most converted snowcoaches meet). These standards are called Tier 2 (for lighter-duty vehicles) or “engine configuration certified” (for heavier duty, diesel vehicles). Implementation of these standards was completed in 2010 (65 FR 6698, February 10, 2000).

The final rule requires that diesel-fueled snowcoaches with a gross vehicle weight rating (GVWR) less than 8,500 pounds meet the functional equivalent of 2010 (or newer) EPA Tier 2 Model Year engine and emission control technology requirements. This includes items such as engine control module (ECM) computers, onboard diagnostics systems (OBDs), sensors, and exhaust aftertreatment equipment that is standard original equipment manufacturer (OEM) equipment included with on-road vehicles or engines. Diesel-powered snowcoaches must also be equipped with applicable ceramic particulate filters and afterburners.

A diesel-fueled snowcoach with a GVWR of 8,500 pounds or more must comply with EPA model year 2010 “engine configuration certified” diesel air emission standards. However, if the diesel snowcoach has a GVWR between 8,500 and 10,000 pounds, there may be a configuration that meets the functional equivalent of 2010 (or newer) EPA Tier 2 Model Year technology standards for an on-road vehicle that achieves the best results from an emissions perspective. This particular type of configuration requires review and approval by the NPS.

The final rule requires that all gasoline-fueled snowcoaches greater than or equal to 10,000 GVWR meet the functional equivalent of 2008 (or newer) EPA Tier 2 Model Year engine emission control technology requirements. This includes items such as ECM computers, OBDs, sensors, and exhaust aftertreatment equipment that is standard OEM equipment included with on-road vehicles or engines. The final rule requires that all gasoline-fueled snowcoaches less than 10,000 GVWR meet the functional equivalent of 2007 (or newer) EPA Tier 2 Model Year engine emission control technology requirements.

The NPS recognizes that some existing snowcoaches will likely need to be replaced or retrofitted with new engines and emissions equipment to comply with these air emission requirements. The NPS believes that this can be accomplished through the typical turnover of snowcoach fleets. As a result, these requirements apply to all existing snowcoaches beginning in the 2016-2017 winter season, and to new snowcoaches put into service beginning in the 2014-2015 winter season. During Phase II of implementation (2014-2015 and 2015-2016 seasons), in order to use a snowcoach in lieu of a snowmobile transportation event, the snowcoach will need to meet the air and sound emission requirements that apply to all snowcoaches beginning in the 2016-2017 season. The NPS notes that the technology to meet the new air emission standards for snowcoaches is currently available in the commercial marketplace and is based upon the EPA's Tier 2 emission standard, and at least 18 of the 78 snowcoaches in the commercial fleet already meet the new air emission requirement.

To ensure compliance with EPA air emission standards, all emission-related exhaust components must be installed and functioning properly. Malfunctioning emissions-related components must be replaced with the OEM components where possible. If new or functional used OEM parts are not available, aftermarket parts may be used. Catalysts that have exceeded their useful life must be replaced unless the commercial tour operator can demonstrate that the catalyst is functioning properly. Operating a snowcoach that has its original pollution control equipment modified or disabled is prohibited.

A snowcoach may be subject to periodic and unannounced inspections to determine compliance with emission requirements. To the extent possible, the NPS will conduct snowcoach inspections when it is mutually convenient for the commercial tour operator and the NPS. This could include off-hours, on days when the snowcoach is not being used to support commercial tour operations, or during the snowcoach `testing days' held annually in the park prior to the first day of the winter season.

The University of Denver (in 2005 and 2006) and North Carolina State University (in 2012) collected emissions data from various snowcoaches. Results indicated that snowcoaches could be modernized to reduce CO and HC emissions. These studies found that in general, newer snowcoaches are cleaner than older models and have emission controls that reduce tailpipe pollutants. By implementing air emission requirements for snowcoaches that call for newer engine and emission controls, the NPS expects continued improvements in the park's air quality.

Sound Emission Requirements

Snowmobiles

Through March 15, 2015, sound restrictions continue to require a snowmobile to operate at or below 73 decibels while at full throttle, as measured using the A scale (dB(A)) according to the 1985 version of the Society of Automotive Engineers (SAE) J192 test procedures. Beginning with the 2015-2016 winter season, the maximum decibel level allowed for snowmobiles is reduced to 67 dB(A) according to the applicable (as of November 1, 2013) version of SAE J1161 test procedures. The SAE J1161 test procedures allow for a tolerance of 2 dB(A) over the sound level limit to provide for variations in test sites, temperature gradients, wind velocity gradients, test equipment, and inherent differences in nominally identical vehicles. To operate in the park after March 15, 2015, a population of measurements for a snowmobile model may not exceed a mean output of 67 dB(A), and a single measurement may not exceed 69 dB(A), using the J1161 test procedures.

The SAE J1161 test procedures measure the sound output of snowmobiles at cruising speed. In contrast, the SAE J192 test procedures are designed to measure the maximum sound output of a snowmobile. The NPS has decided to switch to the J1161 test procedures for several reasons. The J1161 test procedures are more representative of actual operating conditions in the park, where operating snowmobiles at full throttle (as measured by the J192 test procedures) is a rare event. Compliance with the J1161 test procedures is also easier to monitor because park personnel will be able to spot-check the sound output of snowmobiles as they travel through the park at cruising speed. Also, using the J1161 test procedures for snowmobiles makes it easier for the park to accurately compare the sound output of snowmobiles with the sound output of snowcoaches, which will also be measured using the J1161 test procedures.

Because the current NPS sound emission requirements were established using a slightly modified version of the 1985 J192 test procedures (as a result of information provided by industry and modeling), the NPS will initially continue to use the 1985 test procedures to demonstrate compliance with the existing sound emission requirement of 73 dB(A). The NPS will transition to the SAE J1161 test procedures for all snowmobiles seeking to demonstrate compliance with the new sound emission requirement of 67 dB(A). As a result, in the 2014-2015 winter season, the mean dB(A) output of a snowmobile must not exceed 67 dB(A) using the J1161 test procedures to demonstrate voluntary early compliance with the new sound emission requirements, but a snowmobile may still operate in the park if its mean dB(A) output does not exceed 73 dB(A) using the J192 test procedures. After March 15, 2015, all snowmobiles operating in the park must not exceed 67 dB(A) using the J1161 test procedures.

The SAE J1161 test procedures are modified from the current 15 mph steady throttle (cruising speed) to the typical cruising speed of snowmobiles in Yellowstone (approximately 35 mph), consistent with OSV noise emissions tests conducted by the John A. Volpe National Transportation Systems Center, U.S. Department of Transportation, in 2008 and 2009.

To provide certainty to the commercial tour operators and the park, the NPS identifies the version of the SAE J1161 test procedures in place on November 1, 2013 as the version that applies beginning in the 2015-2016 season. This gives the NPS and industry sufficient time to test snowmobiles that are in development and production well ahead of the 2015-2016 winter season. This rule allows the Superintendent to periodically update testing procedures based upon new information or updates to SAE J1161 standards and procedures. To provide certainty to commercial tour operators, the Superintendent may not require certification under a substantially updated version of J1161 test procedures that is adopted by SAE less than two years prior to the start of any winter season.

In past rules, the NPS has allowed an exception to the barometric pressure requirements of the SAE J192 procedures to determine if a snowmobile meets sound emission requirements. With the adoption of SAE J1161 test procedures for snowmobiles seeking to meet the new sound emission requirements, the NPS believes it will be an appropriate time to bring all aspects of testing into conformance with the SAE J1161 procedures.

Accordingly, for the first two winters of implementation of this rule (2013-2014 and 2014-2015), snowmobiles that do not voluntarily meet the new sound emission requirements may be tested at any barometric pressure equal to or above 23.4 inches Hg uncorrected (as measured at or near the test site). This continues the exception to the 1985 SAE J192 test procedures, which require barometric pressure between 27.5 and 30.5 inches Hg. This exception maintains consistency with the testing conditions previously used to determine compliance with the sound emissions requirement. The reduced barometric pressure allowance was necessary since snowmobiles were tested at the high elevation of the park, where atmospheric pressure is lower than the SAE J192 requirements. Testing data indicate that snowmobiles test quieter at higher elevations, and therefore may be able to pass this test at higher elevations but fail when tests are conducted near sea level. In order to demonstrate compliance with the new sound emission standard of 67dB(A), which is voluntary prior to December 15, 2015, but mandatory thereafter, snowmobiles must comply with the requirements of the applicable (as of November 1, 2013) SAE J1161 test procedures with no barometric pressure (high altitude) exception. The SAE J1161 test procedures require barometric pressure between 27.5 and 30.5 inches Hg.

For sound emissions, snowmobile manufacturers may submit their existing Snowmobile Safety and Certification Committee (SSCC) sound level certification form. Under the SSCC machine safety standards program, snowmobile models are certified by an independent testing company as complying with all SSCC safety standards, including sound standards. In order to certify a snowmobile model for use in Yellowstone National Park, the SSCC form must certify that a population of measurements for that model does not exceed the maximum mean dB(A) values required by the final rule. The final rule does not require the SSCC form specifically, as there could be other acceptable documentation in the future. The NPS intends to work cooperatively with the snowmobile manufacturers on appropriate documentation. Other certification methods could be approved by the NPS on a case-by-case basis.

Because modifications made to an individual snowmobile may increase sound emissions beyond the emission restrictions, individual snowmobiles that have been modified will be denied entry to the park. It is the responsibility of the commercial tour operator and guide to ensure that a snowmobile complies with all applicable restrictions.

Snowmobiles being operated on the Cave Falls Road continue to be exempt from the sound emission requirements.

Snowcoaches

As of December 15, 2016, the final rule requires that the mean dB(A) output of snowcoaches in Yellowstone National Park not exceed 75 dB(A) when measured by operating the snowcoach at 25 mph, or its maximum cruising speed if less than 25 mph, for the test cycle following the SAE J1161 test procedures. Since there are no testing standards specific to the snowcoach industry, snowcoach measurements for sound are based on emissions testing conducted using SAE J1161 test procedures.

The NPS believes that commercial tour operators can meet the updated snowmobile and new snowcoach sound emission requirements in the final rule through the typical turnover of their fleets, as opposed to prematurely removing vehicles from service. The NPS notes that the technology to meet the new sound emission standards for snowcoaches is currently available in the commercial marketplace and that at least 17 of the 78 snowcoaches in the commercial fleet already meet the new sound emission requirement.

NPS Will Continue To Certify Snowmobiles and Snowcoaches

An NPS-certified OSV is a vehicle that has been approved by the NPS for use in Yellowstone National Park after demonstrating that it meets the air and sound emission requirements in this final rule. The Superintendent will maintain and annually publish a list of approved snowmobiles by make, model, and year of manufacture that meet the NPS requirements. For the winter of 2012-2013, the NPS certified 77 different snowmobile models (from model years 2008-2013 and from various manufacturers) as meeting the requirements. When certifying a new snowmobile as meeting NPS requirements, the NPS will also publish how long the certification applies, which will be six consecutive winter seasons following its manufacture or until the snowmobile travels 6,000 miles, whichever occurs later. Based on NPS experience, six years or 6,000 miles represents the typical useful life of a snowmobile, and thus provides a purchaser with a reasonable length of time when operation may be allowed within the park.

The NPS will also maintain a list of approved snowcoaches that meet the air and sound emissions requirements. The NPS will test and certify snowcoaches for compliance with air and sound emission requirements at locations in the park. Once approved, a snowcoach may operate in the park through the winter season that begins no more than 10 years following its engine manufacture date. To continue to operate in the park during future winter seasons, a snowcoach must be retrofitted with a new engine and emissions equipment to meet existing EPA Tier 2 engine and emission requirements, and re-certified for air and sound emissions. The 10-year clause provides a mechanism to ensure that the least polluting snowcoaches are used in the park and reflects the concept that over time, the efficiency of engines and exhaust emission control systems degrades due to wear and tear. In consultations with the EPA, it was determined that after 10 years of use, snowcoach engines would emit more pollution than when they first entered service, such that they should be replaced. For example, a snowcoach with a model year 2010 engine could operate through the 2020-2021 winter season and will cease to be allowed to operate in the park as of March 15, 2021, if it is not retrofitted with a new engine and emission equipment and re-tested. A snowcoach with a model year 2007 engine could operate through the 2017-2018 winter season and will cease to be allowed to operate in the park as of March 15, 2018, if it is not retrofitted with a new engine and emission equipment and re-tested. A snowcoach with a model year 2005 or earlier engine manufacture date will need to be retrofitted with upgraded engine and emissions control equipment prior to the start of the 2016-2017 winter season. Because of the large investment in individual snowcoaches, the NPS believes that a 10-year certification period is appropriate.

In the future, the Superintendent may establish performance-based emission standards for snowcoaches that would enable compliant snowcoaches to be operated in the park after the expiration of the 10-year certification period. The Superintendent will provide public notice under one or more of the methods listed in 36 CFR 1.7 before any performance-based emission standard is implemented for snowcoaches.

Once the new air and sound emission requirements apply, all snowmobiles and snowcoaches are required to meet them in order to enter the park. This includes snowmobiles that meet current air and sound emission requirements but do not meet the new requirements, even if they were certified for periods that extend beyond the 2015-2016 season.

Use of Guides Is Required

To mitigate impacts to wildlife, air quality, natural soundscapes, and visitor and employee safety, the NPS continues to require that all OSVs operated by park visitors be accompanied by a guide, except for those operating on the segment of the Cave Falls Road that extends one mile into the park from the adjacent national forest. The NPS continues to prohibit unguided snowmobile access.

Since the winter of 2004-2005, all snowmobiles and snowcoaches have been led or operated by commercial guides. Commercial guides are employed by commercial tour operators, not by the NPS. Guides have proven effective at keeping groups under speed limits, staying on the groomed road surfaces, reducing conflicts with wildlife, and ensuring other behaviors that are appropriate for visitors to safely and responsibly visit the park. Since implementation of the 100% guiding requirement in December 2004, Yellowstone has observed a pronounced reduction in the number of accidents and law enforcement incidents associated with the use of OSVs, even when accounting for the reduced number of snowmobilers relative to pre-guided use levels.

Non-Commercial Guides Are Allowed

In a change from the provisions that have governed OSV use since December 2004, the final rule allows 4 snowmobile transportation events per day of not more than 5 snowmobiles each (including the non-commercial guide) to be led through the park by a non-commercial guide. Each entrance is allocated 1 non-commercially guided transportation event per day.

Non-commercial guides and the snowmobile operators taking part in non-commercially guided transportation events are required to comply with certification requirements under a Non-commercially Guided Snowmobile Access Program to be developed and implemented by the NPS. The certification process will emphasize park rules and regulations, park values and environmental education, required documentation (i.e., documentation of course completion, a special use permit, valid motor vehicle driver's license, and snowmobile registration and insurance), safety and proper procedures when encountering wildlife and other visitors, safety and emergency protocol, accident causes and mitigation techniques, road conditions, snowmobile operations, and mechanical repair. Educational components of the program will be reinforced during an onsite orientation session on the day of the trip.

To participate in this program, non-commercial guides must obtain and possess a special use permit authorizing a non-commercial snowmobile transportation event. These permits will be issued through the Non-commercially Guided Snowmobile Access Program, which will allow non-commercially guided groups to enter the park for a specific date range. The maximum length of a non-commercially guided snowmobile trip is three days and two nights. These permits will be awarded through an annual lottery system. Persons interested in becoming a non-commercial guide will be required to join the lottery by submitting basic information on recreation.gov (name, email, mailing address). Successful lottery applicants will be notified by email that they are pre-approved for a special use permit. Successful lottery applicants will then complete the special use permit application that requires additional information (e.g. driver's license numbers, names of group participants, number and type of snowmobiles, insurance information, area or route of trip). In order to enter the park, non-commercial guides must demonstrate to park officials at the gate that the necessary paperwork is complete and that they and their group members have complied with all other requirements of the Non-commercially Guided Snowmobile Access Program, including educational components. To the extent practicable, the NPS intends to recover the costs of administering this special use permit program pursuant to 16 U.S.C. 3a.

Non-commercial snowmobile guides are directly responsible for the actions of their group. Each non-commercial guide may lead no more than two trips per winter season, and must be at least 18 years of age by the first day of the trip. Non-commercial guides must have working knowledge of snowmobile safety, general first aid, snowmobile repair, and navigational techniques. It is preferable that the non-commercial guide, or another member of the trip, be familiar with Yellowstone National Park. Non-commercial snowmobile guides may not advertise their “service” or accept a fee or any type of compensation for organizing or leading a trip. Collecting a fee (monetary compensation) or compensation of any kind payable to an individual, group, or organization for conducting, leading, or guiding a non-commercially guided snowmobile trip is prohibited (see 36 CFR 5.3). Violating the compensation or advertising restriction may result in administrative revocation of a non-commercial guiding permit or privilege.

These requirements ensure that the Non-commercially Guided Snowmobile Access Program results in impacts to park resources and management that are comparable to those resulting from the use of commercial guides.

Further details about the Non-commercially Guided Snowmobile Access Program can be found in Appendix C to the Plan/SEIS, available online at http://parkplanning.nps.gov/yell, by clicking on the link entitled “2012/2013 Supplemental Winter Use Plan EIS,” and then clicking on the link entitled “Document List.” Consistent with adaptive management principles, the Superintendent may adjust or terminate this program based upon impacts to park resources, utilization rates, visitor experiences, or other factors after providing notice in accordance with one or more methods listed in 36 CFR 1.7.

For both commercially and non-commercially guided groups, an individual snowmobile may not be operated separately from a group within the park. Except in emergency situations, guided parties must travel together and all snowmobiles must remain within one-third of a mile of the first snowmobile in the transportation event. This ensures that groups of snowmobiles do not become separated. Past experience has demonstrated that one-third of a mile allows for sufficient and safe spacing between individual snowmobiles within the group, and allows the guide to maintain control over the group and minimize impacts.

Designated Routes Remain on Roads Only

Yellowstone's oversnow routes remain entirely on roads used by motor vehicles during other seasons and thus are consistent with the requirements in 36 CFR 2.18(c). OSV use continues to be allowed only on designated routes. All main road segments will generally remain open for OSV use, but certain side roads will be reserved for ski and snowshoe use only. Certain main road segments may be closed to all OSV travel during parts of the winter, including early season closure for plowing at the North Entrance, and seasonal closures of the East Entrance from December 15-21 and March 2-15. The final rule allows the Superintendent to open or close oversnow routes after taking into consideration the location of wintering wildlife, appropriate snow cover, public safety, avalanche conditions, resource protection, park operations, use patterns, or other factors.

What are transportation events?

Size of Transportation Events

The final rule manages OSV use by transportation events. A transportation event consists of a group of no more than 10 snowmobiles (including the guide's snowmobile) or 1 snowcoach. The NPS will implement OSV management by transportation events starting with the 2014-2015 winter season (Phase II). In the 2014-2015 season, the average size of a commercially guided snowmobile transportation event may not exceed 7 snowmobiles (including the guide's snowmobile), averaged daily. However, if commercial tour operators voluntarily upgrade their fleets to meet the new air and sound emission standards during the 2014-2015 winter season (before these standards become mandatory in the 2015-2016 season), their group sizes will be more flexible. For commercial snowmobile tour operators who upgrade at least 10 snowmobiles in their fleets to the New Best Available Technology standards for snowmobiles, vehicle numbers will be averaged seasonally for transportation events that consist entirely of upgraded snowmobiles. This would allow commercial tour operators to have days with up to 10 snowmobiles per transportation event, provided their seasonal transportation event size averages 7 or less. As discussed below, this average may increase to 8 if voluntary enhanced emission standards are met. Each group still could not exceed the maximum group size of 10 snowmobiles.

Beginning with the 2015-2016 winter season, the average size of a commercially guided snowmobile transportation event may not exceed 7 snowmobiles (including the guide), averaged over the course of a winter season. As discussed below, this average may increase to 8 if voluntary enhanced emission standards are met. Authorizing up to 10 snowmobiles per transportation event with a seasonal average of 7 or 8 snowmobiles per transportation event allows commercial tour operators to respond to fluctuating visitor demand for access. For example, commercial tour operators may choose to maximize group sizes during busy times, such as holidays, with groups of 10. If this is done, group sizes will need to be smaller later in the season to ensure that the average group size over the course of each season is no more than 7 (or 8 if the voluntary enhanced emission standards are met).

In order for the NPS to monitor compliance with this rule, each commercial tour operator is responsible for keeping track of its daily use on an NPS form, including group size and other variables of interest to the NPS, and reporting these numbers to the NPS on a monthly basis. The NPS may require reports to be submitted more frequently than monthly if it becomes necessary to more closely monitor activities to protect natural or cultural resources in the park. For each transportation event, commercial tour operators are required to report the departure date, the duration of the trip (in days), the event type (snowmobile or snowcoach), the number of snowmobiles or snowcoaches, the number of visitors and guides, the route and primary destination, and whether the transportation event allocation was from another commercial tour operator. Operators are also required to report their transportation event size averages for the previous month and for the season to date. Commercial tour operators that exceed the allowed average size of snowmobile transportation events will receive an unsatisfactory rating, with potential to temporarily or permanently suspend the commercial tour operator's concession contract or commercial use authorization. In addition to the reporting requirements in the final rule, commercial tour operators are also subject to reporting requirements contained in their concession contracts or commercial use authorizations. The NPS will use the information in the report described above to track the average and actual use of each commercial tour operator throughout the season in order to ensure maximum daily limits and seasonal average limits are not exceeded, and to help ensure that commercial tour operators do not receive unsatisfactory ratings or suspension of their contracts. By closely monitoring this information the NPS can also ensure that commercial tour operators do not run out of authorizations before the end of the season and create a gap when prospective visitors cannot be accommodated.

The NPS does not consider it necessary to require a minimum size per transportation event because the use of any number of snowmobiles, no matter how small, constitutes 1 snowmobile transportation event. Since the 2004-2005 winter season (managed use era), snowmobile group size has averaged 6.6 snowmobiles per group.

Voluntary Enhanced Emission Standards for Snowcoaches and Snowmobiles

For commercial tour operators who meet voluntary enhanced emission standards, the size of a snowcoach transportation event and the average size of a snowmobile transportation event may increase above the sizes described in the prior section. The NPS believes the enhanced emission standards are attainable, and that the potential for increased revenues from larger transportation events provides a strong incentive for commercial tour operators to meet these voluntary standards. These incentives reward commercial tour operators that demonstrate a commitment to lowering the impacts of OSVs by increasing business opportunities and park visitation, while lessening impacts to park resources.

A commercial tour operator may include 2 snowcoaches rather than 1 per transportation event if both snowcoaches emit no more than 71 dB(A) as measured using the SAE J1161 test procedures. This is 4 dB(A) less than the maximum allowed under the sound emission requirements. To be considered 1 transportation event, the 2 snowcoaches must travel closely together while keeping a safe distance between them. If this enhanced sound emission standard is met by all snowcoaches, commercial tour operators could have an additional 60 snowcoaches in the park on a particular day (if all 50 snowmobile transportation events are used); however, they could not exceed an average of 1.5 snowcoaches per event over the course of a winter season.

Starting in the 2014-2015 season, the average size of a commercial tour operator's snowmobile transportation events over the course of a winter season may increase from 7 to 8 if all snowmobiles in a group emit no more than 65 dB(A) measured using the SAE J1161 test procedures, and no more than 60 g/Kw-hr CO. This is 2 dB(A) less and 30 g/Kw-hr less than the maximum allowed under sound and air emission requirements to be implemented beginning in the 2015-2016 season. Evidence from the SAE Clean Snowmobile Challenge, held annually in Houghton, Michigan, has shown that production snowmobiles fitted with catalytic converters and other pollution minimization devices are able to reduce CO and HC plus oxides of nitrogen (HC + NOX) tailpipe emissions by up to 98% to an average specific mass of 12.04 and 0.17 g/kW-hr, respectively. If these enhanced emission standards are met by all commercially guided snowmobiles, commercial tour operators could lead up to 46 additional snowmobiles through the park each day.

Commercial tour operators must demonstrate to the park that their snowcoaches or snowmobiles meet these enhanced emission standards prior to the start of a winter season so that the park can accurately measure that operator's compliance with all of the requirements.

Number of Transportation Events Allowed in the Park

Up to 110 transportation events are allowed in the park on any given day during the winter season. Four transportation events are reserved for non-commercially guided tours of no more than 5 snowmobiles, and up to 106 transportation events are distributed to commercial tour operators via concessions contracts or commercial use authorizations. Commercial tour operators may decide to use their allocation of transportation events for snowmobiles or snowcoaches, but no more than 46 transportation events may consist of commercially guided snowmobile groups per day. If a commercial or non-commercial guide runs an overnight trip into the park, each day of the trip is considered a separate transportation event.

Consistent with adaptive management principles, the Superintendent may decrease the maximum number of transportation events allowed in the park each day, adjust or terminate the Non-commercially Guided Snowmobile Access Program, redistribute non-commercially guided transportation events, or make limited changes to the transportation events allocated to each entrance, based upon impacts to park resources, utilization rates, visitor experiences, or other factors after providing public notice in accordance with one or more methods listed in 36 CFR 1.7. Before taking any of these actions, the NPS will determine if any additional environmental compliance is required.

Allocation and Maximum Number of Snowmobiles Allowed in the Park

The actual number of snowmobiles and snowcoaches each day in the park will depend upon visitor demand and how commercial tour operators use their transportation events, subject to the maximum limit of 110 transportation events per day. If more than 60 snowcoach transportation events are used, the result will be fewer snowmobiles allowed in the park. If the maximum number of snowmobile transportation events is used, the result will be only 60 snowcoaches allowed in the park, or 120 snowcoaches that meet the voluntary, enhanced sound emission standards.

The final rule allocates transportation events to Old Faithful, since a commercial tour operator provides snowmobile rentals and commercial guiding services originating there. For example, some visitors choose to enter the park on a snowcoach tour, spend two or more nights at the Old Faithful Snow Lodge, and depart for a commercially guided snowmobile tour of the park from the lodge.

Table 1 below shows the daily allocations and entrance distributions for snowmobile transportation events.

Table 1
Park entrance/location | Daily number of transportation events for commercially guided snowmobiles | Daily number of transportation events for non-commercially guided snowmobiles
West Entrance | 23 | 1
South Entrance | 17 | 1
East Entrance | 2 | 1
North Entrance | 2 | 1
Old Faithful | 2 | 0
Total | 46 | 4

At the highest potential level of use, if all 50 snowmobile transportation events are used in a single day, there could be a maximum of 480 snowmobiles in the park (46 commercially guided groups of 10 snowmobiles each, plus 4 non-commercially guided groups of 5 snowmobiles each). Although this is the maximum number of snowmobiles that could be permitted into the park on a single day, this level of use could not occur every day because commercially guided snowmobile transportation event sizes may not exceed an average of 7 snowmobiles over the course of the season. The average number per day would be no higher than 342 snowmobiles (46 commercially guided groups of 7 snowmobiles each, plus 4 non-commercially guided groups of 5 snowmobiles each). If all snowmobiles meet the voluntary enhanced emission standards described above, then the maximum average size of snowmobile transportation events over the course of a winter season could increase from 7 to 8 snowmobiles, resulting in an average no higher than 388 snowmobiles per day (46 commercially guided groups of 8 snowmobiles each, plus 4 non-commercially guided groups of 5 snowmobiles each).

Table 2 below shows these potential daily maximum numbers of snowmobiles in the park if all snowmobile transportation events are used.

Table 2
| 46 Transportation events from commercially guided groups | 4 Transportation events from non-commercially guided groups | Total snowmobiles in the park
Peak Day (10 snowmobiles per commercially guided group; 5 per non-commercially guided group) | 460 | 20 | 480
Average Day (7 snowmobiles per commercially guided group; 5 per non-commercially guided group) | 322 | 20 | 342
Average Day if all Snowmobiles meet Enhanced Standards (8 snowmobiles per commercially guided group; 5 per non-commercially guided group) | 368 | 20 | 388

Allocation and Maximum Number of Snowcoaches Allowed in the Park

At the highest potential level of use, if all 106 transportation events are used by snowcoaches in a single day, there will be 106 snowcoaches in the park. If the maximum allocation of snowmobile transportation events is used in a single day, there could be a maximum of 60 snowcoaches in the park. At some point in the future, if all snowcoaches meet the voluntary enhanced sound emission standards described above, the maximum number of snowcoaches in the park on a particular day could range from 212 snowcoaches (if no snowmobile allocations are used) to 120 snowcoaches (if all snowmobile allocations are used). Although this is the maximum number of snowcoaches that could be permitted into the park on a single day, this level of use could not occur every day because snowcoach transportation events consisting of snowcoaches that meet the voluntary enhanced emission standards may not exceed an average of 1.5 snowcoaches over the course of the season. These scenarios represent the extreme allocation potentials, and it is likely that actual use will end up somewhere in between these scenarios.

Table 3 below shows the daily allocations and entrance distributions for snowcoach transportation events.

Table 3
Park entrance/location | Daily number of snowcoach transportation events if all 50 snowmobile transportation events are used | Daily number of snowcoach transportation events if zero commercially guided snowmobile transportation events are used *
West Entrance | 26 | 49
South Entrance | 8 | 25
East Entrance | 1 | 3
North Entrance | 13 | 15
Old Faithful | 12 | 14
Total | 60 | 106
* The remaining 4 transportation events are reserved for non-commercially guided snowmobiles.

Flexible Allocations at Each Entrance

Commercial tour operators may cooperatively exchange allocations of snowmobile and snowcoach transportation events within an entrance, but transportation event allocations may not be exchanged among different entrances. For example, a commercial tour operator at the West Entrance who has additional transportation event allocations available may trade those allocations to another commercial tour operator at the West Entrance, but an allocation at the West Entrance could not be traded to a commercial tour operator at the South Entrance. These exchanges provide additional flexibility to commercial tour operators and allow them to respond to visitor demand, while ensuring that the number of transportation events at any particular entrance does not exceed the total number authorized for that day. The NPS envisions that a system for exchanging allocations will be created and controlled by those commercial tour operators who receive transportation event entrance allocations under this plan. Commercial tour operators must notify the NPS when transportation event allocations are exchanged.

Avalanche Management—Sylvan Pass

The final rule designates the East Entrance Road as an OSV route. As with other OSV routes, the Superintendent has the ability to close this route, or portions of it, after taking into consideration the location of wintering wildlife, appropriate snow cover, public safety, avalanche conditions, park operations, use patterns, or other factors. This authority will be used to manage Sylvan Pass in the manner described in the preferred alternative in the Plan/SEIS.

Summary of and Responses to Public Comments

The NPS published the proposed rule at 78 FR 22470 (April 16, 2013). We accepted comments through the mail, hand delivery, and through the Federal eRulemaking Portal at http://www.regulations.gov. Comments were accepted through May 16, 2013, and we received over 6,000 comments. A summary of comments and NPS responses is provided below, followed by a table that sets out changes we have made from the proposed rule in this final rule based on the analysis of the comments and other considerations.

Non-Motorized and Non-OSV Access to the Park

1. Comment: Some comments stated that the NPS should provide additional opportunities for non-motorized access, including additional groomed trails and a temporary hut system.

NPS Response: The final rule generally permits non-motorized travel. Approximately 35 miles of road would continue to be groomed for cross-country skiing and other non-motorized use in the park. In the future, the NPS may explore additional opportunities for non-motorized winter recreation, including the potential for a temporary hut system, which probably would not require further rulemaking.

2. Comment: Several comments urged the NPS to allow snow bikes in the final regulation, while one comment urged the NPS not to allow snow bikes because they would present a safety hazard.

NPS Response: The final rule continues to prohibit snow bikes in the park. The NPS believes that the use of snow bikes could create safety hazards along routes on which substantial numbers of snowmobiles and snowcoaches operate, such as the groomed roads in the park. Snow bikes may create conflicts with visitors and would have unknown impacts to park wildlife. Opportunities for snow bike use exist in the area, outside of the park. The NPS may reconsider the use of snow bikes through a separate planning process in the future.

3. Comment: Some comments suggested allowing alternative ways to access the park, such as electric snowmobiles, trains, buses, or horse-drawn carriages.

NPS Response: In the Plan/SEIS, the NPS considered but dismissed the use of mass transit systems such as a train or monorail, as well as plowing park roads and allowing buses to bring visitors into the park. Reasons for dismissal can be found in Chapter 2 of the Plan/SEIS. At this time, there are no electric snowmobiles on the market, and therefore such technology could not be evaluated. The NPS believes that due to the harsh weather conditions and a number of other factors, it is not feasible to implement a horse-drawn carriage transportation system.

Numbers of OSVs Allowed in the Park

4. Comment: One comment urged the NPS to be more flexible with the daily and monthly quotas in order to allow commercial tour operators to take advantage of peak demand periods.

NPS Response: The NPS believes the final rule provides an appropriate amount of flexibility to commercial tour operators. The final rule authorizes up to 10 snowmobiles per transportation event while maintaining a seasonal average of 7 snowmobiles per transportation event or less (the eight-year historic average is 6.6 snowmobiles per event). Furthermore, commercial tour operators who run transportation events consisting entirely of snowmobiles that meet voluntary, enhanced emission standards are allowed to average 8 vehicles per event over the season. Similarly, transportation events that consist of snowcoaches that meet voluntary, enhanced emission standards could have up to 2 snowcoaches per transportation event, as long as the commercial tour operators running those events average no more than 1.5 snowcoaches per event over the season. The final rule does not impose any monthly limits or quotas on OSV use.

5. Comment: Some comments stated that the number of snowmobiles allowed under the proposed rule is too high. Other comments opposed increasing snowmobile use over levels authorized under the interim regulations, and some urged the NPS to extend the interim regulation and implement it on a permanent basis.

NPS Response: The NPS acknowledges that this rule would allow more snowmobiles in the park per day than have been allowed since the 2008-2009 season. However, the impact analysis in the Plan/SEIS demonstrates that by managing OSV use by transportation events and by imposing new air and sound emission requirements for both snowmobiles and snowcoaches, this higher number of vehicles would result in less overall impact to park resources while allowing more visitors to access the park than have been allowed in recent years. In the past, the NPS and interested parties have focused on the total number of vehicles authorized to access the park. However, this emphasis is misleading because impacts to wildlife and soundscapes stem primarily from groups of vehicles, not individual vehicles, and can be mitigated through vehicle management. By packaging traffic into transportation events and capping the total daily and seasonal number of transportation events, the park proactively reduces the amount of time vehicles are audible, therefore reducing impacts to natural soundscapes. By limiting the number of daily transportation events in the park, wildlife would be disrupted fewer times. These steps, in combination with continued 100% guiding requirements, will limit impacts on the park's flora, fauna, soundscape, and air quality into the future.

6. Comment: Some comments opposed the use of snowmobiles at any level in the park, urging the NPS to reduce or eliminate snowmobile use and rely instead on snowcoaches only.

NPS Response: The Plan/SEIS considered an alternative (#3) that would have phased out snowmobile use in favor of snowcoaches that meet air and sound emission requirements. This alternative was not selected because it would limit visitors' choices regarding how to access and experience the park, it would not allow as many visitors to experience the park as the final rule does, and it would have greater overall adverse impacts to park resources than the final rule. The impact analysis in the Plan/SEIS demonstrates that with implementation of New Best Available Technology standards and transportation event management, the impacts of snowmobile use will be comparable to the impacts of snowcoach use.

7. Comment: Some comments urged the NPS to allow greater numbers of OSVs than are allowed in the proposed rule.

NPS Response: In the Final 2011 EIS and the Plan/SEIS, the NPS considered several alternatives that would have allowed greater numbers of OSVs than are allowed in the final rule. The NPS dismissed these alternatives for a number of reasons, including that higher OSV use numbers would have too great of an environmental impact on park resources.

8. Comment: Some comments advocated closing the park to visitors completely during the winter.

NPS Response: The NPS believes that visitors should be afforded the opportunity to experience the unique resources and values of Yellowstone during the winter. Some form of OSV travel is necessary to allow visitors to access areas of the park that cannot reasonably be reached using non-motorized means of transportation.

9. Comment: Some comments suggested that transportation events that are allocated to a specific entrance that are not bid on by commercial tour operators should be reallocated to a different entrance.

NPS Response: The final rule allows the Superintendent to make minor changes to the number of transportation events allocated to each entrance for a number of reasons, including utilization rates.

Air and Sound Emission Requirements

10. Comment: In response to a question posed in the proposed rule, a number of comments opposed implementing the new air and sound emission requirements for snowmobiles before the 2017-2018 season, stating that it will take time for manufacturers to develop snowmobiles that can meet the New Best Available Technology standards and that the typical time it takes to phase in new technology is three years. Other comments supported the implementation schedule in the proposed rule, stating that imposing the new air and sound emission requirements in the 2017-2018 season will give commercial tour operators enough time to turn over their OSV fleets, as opposed to forcing them to purchase new machines before they are financially capable of doing so. Other comments stated that even if one snowmobile manufacturer can meet the New Best Available Technology standards earlier than the 2017-2018 season, the NPS should allow enough time for all of the companies that currently produce compliant snowmobiles to develop New Best Available Technology snowmobiles and asked the NPS to consider the long-standing relationship between snowmobile manufacturers and commercial tour operators. One comment stated that due to the New Best Available Technology standards, there will likely be fewer snowmobile models certified for use in the park, and that snowmobiles meeting the voluntary, enhanced emission standards are not likely to be produced in the near future.

NPS Response: The NPS acknowledges the concerns about whether all manufacturers can produce snowmobiles that meet New Best Available Technology standards prior to the 2017-2018 season, and recognizes that there are concerns about impacts to commercial tour operators that would result from accelerating the New Best Available Technology implementation dates. The NPS notes, however, that one manufacturer has already certified to the NPS that it produces a model that meets the new air and sound emission requirements that will be mandatory beginning in the 2015-2016 season: the Bombardier Ski Doo GSX LE 900 ACE produces 90 g/kW-hr of CO, 8 g/kW-hr of HC (both FEL), and 69 dB(A) as measured via SAE J192 (forecasted to produce ~67 dB(A) as measured via SAE J1161). In addition, accelerating implementation of New Best Available Technology standards for snowmobiles to December 2015 will not impact snowmobile commercial tour operators who turn their fleets over biennially because model year 2014 snowmobiles purchased for use in 2013-2014 and 2014-2015 will be resold on the secondary market prior to implementation of New Best Available Technology in December 2015. Further, the NPS has conducted additional economic analyses that show the effect on concessioners for advancing New Best Available Technology two years (from December 2017 to December 2015) would be +$220,956 at the 3% discount rate (+$197,091 at 7% discount rate). Lastly, the NPS will be better able to protect its resources and minimize adverse impacts related to OSV use sooner by advancing the implementation date for New Best Available Technology for snowmobiles to December 2015.

11. Comment: In response to a question posed in the proposed rule, many comments urged the NPS to require snowmobiles to meet the New Best Available Technology requirements in the 2015-2016 season instead of the 2017-2018 season, stating that snowmobiles that meet the New Best Available Technology standards already exist and therefore there is no reason to wait until the 2017-2018 season to require these machines. Comments also supported requiring that all existing snowcoaches meet air and sound emission requirements in the 2016-2017 season instead of the 2017-2018 season.

NPS Response: The NPS agrees that snowmobiles and snowcoaches that meet the new air and sound emission standards are currently available. As a result, the final rule requires New Best Available Technology standards for snowmobiles be implemented in the 2015-2016 season, and air and sound emission standards for snowcoaches be implemented in the 2016-2017 season.

12. Comment: In response to a question posed in the proposed rule, many commenters stated the NPS should not abandon the proposal to reduce CO emissions as part of the New Best Available Technology standards.

NPS Response: The NPS agrees that the mandated reductions to CO emissions are necessary in order to minimize impacts to park resources, and that the New Best Available Technology standards can be met with existing technology. The NPS notes that 36 different snowmobile models already meet the new air emission standards that will be mandatory beginning in the 2015-2016 season. Accordingly, the CO emission reductions remain part of the New Best Available Technology standards for snowmobiles in the final rule.

13. Comment: In response to a question posed in the proposed rule, many comments urged the NPS not to abandon the New Best Available Technology requirements included in the proposed rule. Some comments urged the NPS to adopt even more stringent Best Available Technology requirements than were included in the proposed rule. Several comments urged the NPS to continue to evolve air and sound emission standards over time.

NPS Response: The New Best Available Technology requirements for snowmobiles and the air and sound emission requirements for snowcoaches that are included in the final rule are stricter than those that have been in place since the 2004-2005 season. The NPS believes that the air and sound emissions standards in the final rule will better protect park resources and values than has been the case in the past, and can be met by OSV manufacturers. In addition to the new air and sound emission standards for snowmobiles and snowcoaches, the final rule includes voluntary, enhanced standards that would reward innovations in OSV technology and would further reduce impacts to air and soundscapes. The NPS will continue to evaluate the impacts of OSV use through the Adaptive Management Program, and if necessary, make changes to the air and sound emission standards. For instance, the final rule allows the Superintendent to establish performance-based standards for snowcoaches that would enable compliant snowcoaches to be operated in the park after the expiration of the 10-year certification period. The NPS recognizes that any other changes to air and sound emission standards, such as the implementation of requirements for nitrogen oxide emissions, would require changes to the rule, and could also require additional National Environmental Policy Act (NEPA) review prior to implementation.

14. Comment: One comment urged the NPS to investigate the feasibility of limiting nitrogen oxide emissions from oversnow vehicles.

NPS Response: The NPS has begun collecting data on nitrogen oxide emissions from OSVs in the past few years, and has begun monitoring for nitrogen oxides over the past two winter seasons. The NPS expects to conduct additional research regarding nitrogen oxides in the future, and where possible, will correlate new data to individual vehicle types in order to better understand the issues and impacts related to emission of nitrogen oxide from OSVs. If necessary, the NPS could limit nitrogen oxide emissions in the future, through the Adaptive Management Program.

15. Comment: One comment urged the NPS to test snowmobiles under the same conditions and in the same manner that they are used in the park.

NPS Response: Under the final rule, snowmobiles will be tested for noise emissions at their typical cruising speed of 35 mph in accordance with the SAE J1161 test procedures. This is a deviation from past snowmobile noise emission measurements which were conducted following SAE J192 procedures, a full-throttle maximum sound output test. Snowmobiles will continue to be tested for air emissions by individual manufacturers following the procedures detailed in 40 CFR 1051.505. The NPS has determined that it would cause undue hardship and expense to require testing in conditions that are encountered in the park outside of a laboratory environment.

16. Comment: One comment urged the NPS not to adopt new methods for testing snowmobile noise emissions.

NPS Response: The NPS believes that adopting the J1161 test procedures will more accurately measure noise emissions in a manner that reflects how snowmobiles are used in the park. Additionally, while the new method requires testing and certifying snowmobiles at their typical cruising speed of 35 mph, the NPS is able to correlate the new testing procedures with the previous, full-throttle tests.

17. Comment: In response to a question posed in the proposed rule, many comments stated that snowmobiles used for non-commercially guided trips should be required to meet New Best Available Technology standards.

NPS Response: The NPS agrees that New Best Available Technology standards are needed to protect park resources and values and that exempting snowmobiles used in non-commercially guided groups would unnecessarily allow greater impacts to park resources than the use of vehicles compliant with New Best Available Technology standards. This would also create a double-standard for snowmobiles used in the park. Under the final rule, all snowmobiles entering the park, including those used in non-commercially guided groups, are required to meet New Best Available Technology standards.

18. Comment: One comment stated that only snowmobiles with four-stroke engines and fuel injection should be allowed in the park.

NPS Response: The final rule contains performance-based sound and air emission standards for snowmobiles. As long as a snowmobile can meet those standards, that snowmobile can have a two-stroke or a four-stroke engine.

19. Comment: One comment urged the NPS to adopt a performance-based standard for historic Bombardier snowcoaches and urged the NPS to allow engines in historic Bombardier snowcoaches to be used for more than ten years. Several comments further urged the NPS to develop performance-based emissions requirements for all snowcoaches, not just Bombardiers, rather than requiring design specifications (technology-based standards). Other commenters stated that if performance-based standards are developed, they would need to be subjected to additional review under NEPA.

NPS Response: The 10-year requirement ensures that the least polluting snowcoaches are used in the park and reflects the concept that over time, the efficiency of engines and exhaust emission control systems degrades due to wear and tear. In consultations with the EPA, it was determined that after 10 years of use, snowcoach engines would emit more pollution than when they first entered service, such that they should be replaced. The NPS acknowledges that the technology-based air and sound emission standards for snowcoaches could result in some vehicles entering the park emitting higher levels of air emissions than might be desirable. Because the majority of snowcoaches are typically converted from street vehicles designed to operate on roads, it is difficult to predict the actual emissions of each vehicle after it is converted to tracks and operated on snow at high elevations. Due to the limited amount of data on actual snowcoach emissions, a performance-based standard could not be implemented at this time. The NPS will continue to collect data on snowcoach emissions and, if necessary, will investigate the possibility of implementing a performance-based or quasi-technology/performance-based standard through the Adaptive Management Program. The final rule allows the Superintendent to establish performance-based emission standards for snowcoaches that would enable compliant snowcoaches to be operated in the park after the expiration of the 10-year certification period. The NPS recognizes that any other changes to air and sound emission standards, such as the implementation of requirements for nitrogen oxide emissions, would require changes to the rule, and could also require additional NEPA review prior to implementation.

20. Comment: One comment stated that the impacts of increased OSV use during Phase II of implementation are not evaluated in the Plan/SEIS.

NPS Response: During Phase II of implementation (2014-2015 and 2015-2016 seasons), depending on how commercial tour operators use their transportation events, the impacts of OSV use would fall generally within the impacts predicted for Alternatives 2A and 4A-D in the Plan/SEIS. For example, if zero commercial tour operators voluntarily upgrade their OSVs to meet the new air and sound emission standards during Phase II, before these requirements become mandatory, impacts to resources would be similar to those forecasted for Alternative 2A in the Plan/SEIS. This is because the additional air and noise impacts created by an increase of 24 snowmobiles (from 318 to 342 snowmobiles) would largely be offset by a reduction of 18 snowcoaches (from 78 to 60 snowcoaches). If, however, all commercial tour operators voluntarily upgrade their OSVs to meet the new air and sound emission standards during Phase II, impacts would be identical to those forecasted in the Plan/SEIS for Alternatives 4A-D (depending on how commercial tour operators choose to allocate their snowmobile and snowcoach transportation events). In addition, as a mechanism to help ensure the impacts of OSV use do not exceed the forecasted level of impacts disclosed in the Plan/SEIS, the NPS made a change to the final rule clarifying that in order to use a snowcoach in lieu of a snowmobile transportation event during Phase II, the snowcoach will need to meet the air and sound emission requirements that apply to all snowcoaches beginning in the 2016-2017 season.

Non-Commercially Guided Groups

21. Comment: Some comments opposed allowing non-commercially guided use, stating that the requirement in recent regulations that all snowmobiles be accompanied by a professional guide has been instrumental in reducing impacts to park resources. Other comments supported non-commercially guided access, claiming that it is an essential aspect of the proposed rule.

NPS Response: Best available data demonstrates that unguided use could have greater adverse impacts to park resources than guided use, but this data does not distinguish between commercial and non-commercial guides. The NPS believes that with appropriate training and enforcement, there will be no difference in impacts from similarly sized commercially guided groups versus non-commercially guided groups. The NPS will develop a Non-commercially Guided Snowmobile Access Program and will monitor non-commercially guided groups through the Adaptive Management Program. If non-commercially guided groups are determined to have a relatively greater impact to park resources and values than commercially guided groups, non-commercially guided use may be reduced or discontinued.

22. Comment: Some comments urged the NPS to allow more than 4 transportation events each day for non-commercially guided groups. Other comments suggested that an increase to the number of non-commercially guided transportation events be allowed through the adaptive management process.

NPS Response: The NPS notes that non-commercially guided access has not been allowed in the park before and believes the level of non-commercially guided access in the final rule is appropriate. The NPS further notes that the number of snowmobile transportation events is capped at 50 (46 for commercial tour operators and 4 for non-commercially guided trips) and any increases to the number of non-commercially guided transportation events through the adaptive management process would come at the expense of transportation events allocated to commercial tour operators.

23. Comment: Some comments offered suggestions regarding the Non-commercially Guided Snowmobile Access Program. Several commenters offered to participate in the development of the Non-commercially Guided Snowmobile Access Program, or identified persons or organizations that they believe should assist with development of the program.

NPS Response: The NPS is committed to developing a Non-commercially Guided Snowmobile Access Program with input from the public and stakeholders. The NPS will notify the public regarding this effort when it begins, and will consider the comments submitted on the proposed rule relating to this program at that time.

24. Comment: Some commenters urged the NPS to require non-commercially guided tour operators to carry the same insurance as commercial tour operators.

NPS Response: Under the final rule, each non-commercial guide may lead no more than two trips per winter season and may not charge a fee or accept any compensation for guiding services. As a result, the NPS does not believe it is appropriate to require non-commercial guides to carry the same insurance as commercial tour operators.

25. Comment: Several comments stated concerns that non-commercially guided access may adversely affect the number of transportation events available for commercial tour operators, and stated there should be a separate allocation for non-commercially guided transportation events.

NPS Response: Under the final rule, 50 of the 110 total transportation events allowed in the park per day are reserved for snowmobiles. Of these 50 snowmobile transportation events, 46 will be allocated to commercial tour operators and 4 will be reserved for non-commercially guided groups.

26. Comment: One comment urged the NPS to consider allowing non-commercially guided groups to stay in the park for longer than two days and one night at a time.

NPS Response: The NPS recognizes that some visitors who enter the park as part of a non-commercially guided group may wish to stay for several days. The preamble of the final rule has been changed to state that the maximum length of a non-commercially guided snowmobile trip is three days and two nights.

Management of Sylvan Pass

27. Comment: Some comments opposed keeping Sylvan Pass open, stating that avalanche control activities are unsafe, that the area contains lynx and wolverine habitat, and that the costs of keeping it open are too high. Other comments supported keeping access to the park open through the East Entrance, citing the importance of access to the park for Northwest Wyoming and its visitors.

NPS Response: The NPS conducted Operational Risk Management Assessments (ORMAs) in 2007 and 2010 focused on issues relating to keeping Sylvan Pass open in the winter. The results of these ORMAs indicated that appropriate procedures are in place to operate the Pass safely. Best available data indicates that the Pass is not frequently used by lynx or wolverines, and the potential for impacts on these species is minimal. Furthermore, avalanche mitigation in Sylvan Pass affects less than 0.1% of wolverine habitat within Yellowstone. The NPS completed an informal consultation with the U.S. Fish and Wildlife Service, which concurred with the NPS determination that impacts from OSV use may affect, but are not likely to adversely affect, Canada lynx, designated critical habitat for lynx, and wolverines. Additional details regarding the impacts of avalanche mitigation on Sylvan Pass can be found in Chapter 4 of the Plan/SEIS. The NPS understands that the public is concerned with the cost of Sylvan Pass operations and the cost of winter operations as a whole. However, the NPS must balance cost with other factors, including visitor access and enjoyment of the park, when determining a long-term winter use plan.

Snowcoach Requirements

28. Comment: One comment suggested that there should be size and weight restrictions on snowcoaches to reduce rutting.

NPS Response: Neither maximum vehicle weight, gross vehicle weight rating, nor width for snowcoaches is included in the final rule. In the past, the NPS proposed specifying a maximum size and pounds per square inch weight limit for snowcoaches in order to address issues related to rutting. Without detailed study that evaluates variables, including pounds per square inch, snow conditions and environmental considerations such as density, snow-water equivalency, hardness, aspect, and other factors such as grooming practices and equipment, and snowcoach track design and configuration, it is difficult to determine what specific requirements would lessen the potential for rutting of snow roads. The NPS acknowledges that some snowcoaches leave ruts on the roads and that these ruts negatively affect the visitor experience and present a potential safety hazard to other users. To address this concern, the NPS is currently studying this issue and is working to develop mitigation strategies once the determinants of rutting are positively identified. After further study, should any size, weight, or weight displacement restrictions for snowcoaches be necessary, these restrictions will be incorporated in commercial tour operators' annual operating plans.

29. Comment: One comment urged the NPS to allow snowcoaches to be equipped with tires in addition to tracks.

NPS Response: The NPS recognizes that there may be snowcoaches developed in the future that use tires specifically designed for operation in oversnow conditions instead of tracks. While the impact analysis in the Plan/SEIS only includes analysis of snowcoaches with tracks, the NPS wishes to retain flexibility to allow wheeled snowcoaches in the future. Therefore, the definition of a snowcoach has been changed in the final rule to allow the possibility for wheeled snowcoach use. The NPS could examine wheeled snowcoach use through the adaptive management and monitoring process.

Adaptive Management

30. Comment: Some comments asked for the adaptive management program to be more clearly defined and incorporated into the final rule.

NPS Response: As stated in the Plan/SEIS, in order to be most effective adaptive management processes must include stakeholder input. The NPS has committed to an Adaptive Management Program that will provide for this stakeholder involvement, but due to the time it takes to fully develop an adaptive management plan, this could not be completed prior to the promulgation of the final rule.

Impacts to Park Resources

31. Comment: Some comments urged the NPS to keep impacts under the final rule similar to impacts seen during the past four years under the interim rule. Other comments urged the NPS to ensure the park is cleaner and quieter than has been the case over the past four years under the interim rule.

NPS Response: The NPS notes that the level of average use seen over the past four seasons under the interim rule represents less than 60% of the use levels authorized during that time. In the Plan/SEIS, the NPS considered but dismissed from detailed analysis an alternative that would have allowed a maximum of 191 snowmobiles and 36 snowcoaches per day, which are the average use levels seen during the 2009-2010 through 2011-2012 seasons. While there are a number of factors that resulted in less than 100% of the authorized use being seen over the past few seasons, for its impact analysis in the Plan/SEIS, the NPS assumed that 100% of the allowable OSV use will take place under each alternative analyzed. Under this assumption, the impacts of OSV use under the final rule would have less adverse impact to park resources than the level of use authorized under the interim rule. The NPS notes, however, that even at the same levels as the average use seen under the interim rule, OSV use under the final rule would result in less impact to park resources than have been seen over the past four seasons, due to the new air and sound emission requirements and management of OSVs by transportation events.

Snowmobile Speed Limits

32. Comment: One comment opposed lowering the speed limit for snowmobiles to 35 mph, stating that this will limit the time visitors will be able to spend enjoying park resources because it will take more time to enter and exit the park.

NPS Response: 35 mph represents the typical cruising speed for snowmobiles in the park. Therefore, the NPS believes that visitors will have a similar amount of time to experience park resources as they had under previous winter use rules. The NPS believes this speed limit is appropriate to protect visitor safety and to limit impacts to park resources from OSV use, including minimization of OSV-caused noise.

Changes From the Proposed Rule

After taking the public comments into consideration and after additional review, the NPS made the following changes in the final rule:

§ 7.13(l)(2) | In the definition of “snowcoach,” removed the requirement that snowcoaches be driven by a track or tracks and steered by skis or tracks.
§ 7.13(l)(4)(i) | Clarified that the Superintendent may establish additional operating conditions, including performance-based emission standards for snowcoaches, after providing public notice.
§ 7.13(l)(4)(ii) | Changed the dates that air and sound emission requirements apply to new and existing snowcoaches.
§ 7.13(l)(4)(iv) | Clarified that snowcoach sound emissions are measured when operating the snowcoach at 25 mph or its maximum cruising speed if less than 25 mph. Testing at these speeds is representative of how snowcoaches are operated in the park and allows the NPS to better understand impacts to resources.
§ 7.13(l)(4)(vii) | Clarified that the NPS will test and certify snowcoaches for air and sound emissions in the park. Testing in the park allows the NPS to measure impacts under reasonable operating conditions.
§ 7.13(l)(6)(i) | Changed the dates that new air and sound emission requirements apply to snowmobiles.
§ 7.13(l)(8)(i) | Provided more detail about routes where snowcoaches may be operated in the park.
§ 7.13(l)(9)(v) | Added a requirement that snowmobiles operated by non-commercial guides be clearly marked. Concession contracts require commercial guides to be marked so this change imposes the same requirement on non-commercial guides. Marking assists the NPS with enforcement of the rules.
§ 7.13(l)(9)(vi) | Clarified that non-commercial guides must obtain a special use permit from the NPS prior to entering the park with a non-commercially guided group.
§ 7.13(l)(10)(xii) | Adjusted the chart of daily transportation event entry limits by park entrance/location to be consistent with modeling conducted as part of the Plan/SEIS.
§ 7.13(l)(11)(iii) | Clarified that commercial tour operator reports may be required more than once per month if it becomes necessary to more closely monitor activities to protect natural or cultural resources in the park. This would allow the NPS to better measure compliance with the season average limits on transportation events and give commercial tour operators better information to make informed business decisions.
§ 7.13(l)(12)(i) | Clarified that the Superintendent may determine the start and end dates of a winter season, and decide to close all or certain areas of the park to OSV use after considering appropriate factors.
§ 7.13(l)(13)(i)(I) | Added a 25 mph speed limit for snowcoaches. This ensures that snowcoach use will be consistent with environmental impact models in the Plan/SEIS. This limit is consistent with the performance capabilities of snowcoaches.
§ 7.13(l)(13)(ii)(D) | Added a requirement that snowmobiles be registered in the U.S. State or Canadian Province of principal use.

Section-by-Section Analysis

Section 7.13(l)(1) What is the scope of this regulation?

The regulations apply to the use of snowcoaches and snowmobiles by guides and park visitors. Except where indicated, the regulations do not apply to non-administrative OSV use by NPS employees, contractors, concessioner employees, their families and guests, or other users authorized by the Superintendent.

Section 7.13(l)(2) What terms do I need to know?

The NPS has included definitions for a variety of terms, including commercial guide, commercial tour operator, non-commercially guided group, oversnow vehicle, oversnow route, and transportation event.

For snowmobiles, the NPS is continuing to use the definition found at 36 CFR 1.4. The final rule also includes language that makes it clear that all-terrain vehicles and utility-type vehicles are not snowmobiles or snowcoaches, even if they have been adapted for use on snow with track and ski systems.

Earlier regulations governing winter use at the park referred only to snowmobiles or snowcoaches. Since there is a strong likelihood that new forms of oversnow motorized vehicles will be developed in the future, a definition for “oversnow vehicle” was developed to ensure that any such new technology is subject to this regulation. When a particular requirement or restriction only applies to a certain type of OSV, the specific vehicle is stated and the restriction only applies to that type of vehicle, not all OSVs. However, OSVs that do not meet the strict definition of a snowcoach (i.e., both weight and passenger capacity) are subject to the same requirements as snowmobiles. These definitions may be clarified in future rulemakings based on changes in technology.

In earlier regulations, the NPS specified a size and weight limit for snowcoaches. As the number of larger and heavier snowcoaches has increased, the NPS has observed serious rutting of the groomed road surface caused by heavier snowcoaches. Rutting creates safety issues for other snowcoaches and snowmobiles using oversnow routes. The NPS is evaluating a suite of management actions to address rutting, which may include placing vehicle weight and size limits in the concession agreements and commercial use authorizations that govern the use of snowcoaches in the park.

Section 7.13(l)(3) When may I operate a snowmobile in Yellowstone National Park?

The final rule continues to authorize operation of a snowmobile within the park each winter season subject to use limits, guiding requirements, operating hours, equipment requirements, emission requirements, and operating conditions. Snowmobile and snowcoach use between Flagg Ranch and the South Entrance of Yellowstone occurs in the John D. Rockefeller, Jr. Memorial Parkway, and is addressed in regulations pertaining to that unit of the National Park System at 36 CFR 7.21(a). Any OSV that enters Yellowstone is subject to the terms and conditions of this final rule.

Section 7.13(l)(4) When may I operate a snowcoach in Yellowstone National Park?

The final rule continues to authorize operation of snowcoaches in the park each winter season, subject to the conditions in this final rule. Snowcoaches must be operated under a concessions contract or commercial use authorization and meet the applicable air, weight, and sound emission requirements. Snowcoaches must not exceed 75 dB(A) when measured by operating the snowcoach at 25 mph, or its maximum cruising speed if less than 25 mph, using the SAE J1161 test procedures. Existing snowcoaches must meet these requirements beginning in the 2016-2017 winter season, while new snowcoaches must meet these requirements upon being put into service beginning in the 2014-2015 winter season.

Section 7.13(l)(5) Must I operate a certain model of snowmobile?

Except for some exemptions that apply to the Cave Falls Road and use by persons affiliated with the park, the final rule continues to require that only snowmobiles that meet NPS air and sound emissions requirements may be operated in the park.

Section 7.13(l)(6) What standards will the Superintendent use to approve snowmobile makes, models, and year of manufacture for use in the park?

Snowmobiles must continue to meet the existing air and sound emission requirements through the 2014-2015 winter season. As of December 15, 2015, snowmobiles must operate at or below 67 dB(A) as measured at cruising speed and must be certified under 40 CFR part 1051 to a FEL no greater than a total of 15 g/kW-hr for HC and a FEL of no greater than 90 g/kW-hr for CO.

Section 7.13 (l)(7) Where may I operate a snowmobile in Yellowstone National Park?

Specific routes are listed where snowmobiles may be operated, but the final rule also provides latitude for the Superintendent to close and reopen routes when necessary. When determining what routes are available for use, the Superintendent will consider weather and snow conditions, public safety, protection of park resources, park operations, use patterns, and other factors.

Section 7.13(l)(8) What routes are designated for snowcoach use?

Snowcoaches may be operated on the specific routes open to snowmobile use. In addition, rubber-tracked snowcoaches may be operated from the park entrance at Gardiner, MT, to the parking lot of Upper Terrace Drive and in the Mammoth Hot Springs developed area. This final rule also provides latitude for the Superintendent to close and reopen routes when necessary. When determining what routes are available for use, the Superintendent will consider weather and snow conditions, public safety, protection of park resources, park operations, use patterns, and other factors.

Section 7.13(l)(9) Must I travel with a guide while snowmobiling in Yellowstone and what other guiding requirements apply?

The final rule retains the requirement that, except on the Cave Falls Road, all visitors operating snowmobiles in the park must be accompanied by a guide. In addition to commercially guided trips, the final rule allows 4 groups of up to 5 snowmobiles to be led into the park by non-commercial guides who have been certified under the Non-commercially Guided Snowmobile Access Program. The final rule requires that guided parties must travel together and not be separated by more than one-third of a mile from the first snowmobile in the group to ensure groups stay together for safety considerations.

Section 7.13(l)(10) Are there limits established for the numbers of snowmobiles and snowcoaches permitted to operate in the park each day?

As described above, the NPS will manage OSV use by limiting the size and number of snowmobile and snowcoach transportation events on any given day. No more than 110 transportation events are allowed in the park on any day. Four transportation events are reserved for non-commercially guided groups, and up to 106 transportation events are allocated to commercial tour operators via concession contracts or commercial use authorizations. Commercial tour operators may use their transportation events for snowmobiles or snowcoaches, provided that no more than 46 commercially guided transportation events may consist of snowmobiles. The maximum size of a commercially guided snowmobile transportation event is 10 snowmobiles, with a maximum average size of 7 over the course of a winter season. The maximum average size of a snowmobile transportation event may increase from 7 to 8 if all of the snowmobiles in a group meet voluntary, enhanced emission standards. The maximum size of a snowcoach transportation event will initially be 1 snowcoach, but may increase to 2 snowcoaches, not to exceed a seasonal average of 1.5 snowcoaches per transportation event, if the vehicles meet voluntary, enhanced emission standards.

Section 7.13(l)(11) How will the NPS monitor compliance with the required average and maximum size of transportation events?

In order for the NPS to monitor compliance with this rule, each commercial tour operator is responsible for keeping track of its daily use on an NPS form, including group size and other variables of interest to the NPS, and reporting these numbers to the NPS on a monthly basis. The NPS may require reports to be submitted more frequently than monthly if it becomes necessary to more closely monitor activities to protect natural or cultural resources in the park. For each transportation event, commercial tour operators are required to report the departure date, the duration of the trip (in days), the event type (snowmobile or snowcoach), the number of snowmobiles or snowcoaches, the number of visitors and guides, the route and primary destination, and whether the transportation event allocation was from another commercial tour operator. Operators are required to report their transportation event size averages for the previous month and for the season to-date. In addition to the reporting requirements in the final rule, commercial tour operators are also subject to reporting requirements contained in their concession contracts or commercial use authorizations.

Section 7.13(l)(12) How will I know when I can operate a snowmobile or snowcoach in the park?

The Superintendent will determine the start and end dates of each winter season, which will begin no earlier than December 15 and end no later than March 15 each winter season. The Superintendent will consider appropriate factors when determining the length of the winter season, including adequate snow cover, the location of wintering wildlife, public safety, resource protection, park operations, and use patterns. Based upon these factors, the Superintendent may determine that there will be no winter season for oversnow vehicles or that certain areas of the park may be closed to public OSV use. The final rule does not change the methods the Superintendent will use to determine operating hours. In the past, the Superintendent has set the opening and closing hours at 7:00 a.m. and 9:00 p.m., respectively. Early and late entries were granted on a case-by-case basis. The final rule allows the Superintendent to manage operating hours, dates, and use levels with public notice provided through one or more methods listed in 36 CFR 1.7. These methods could include signs, maps, public notices, or other publications. Except for emergency situations, any changes to operating hours, dates, or use levels will be made on an annual basis. Initially, the Superintendent intends to set the operating hours as 7:00 a.m. to 9:00 p.m. with no early entries or late exits allowed except for administrative travel, non-administrative travel by affiliated persons, and emergencies.

Section 7.13 (l)(13) What other conditions apply to the operation of OSVs?

The final rule maintains requirements regarding the operation of OSVs in the park, such as driver's license and registration requirements, operating procedures, requirements for headlights, brakes, and other safety equipment, length of idling time (which has been reduced from five to three minutes), maximum speed limit (35 mph for snowmobiles and 25 mph for snowcoaches), towing of sleds, and other requirements related to safety and impacts to resources. Towing people is a potential safety hazard and health risk due to road conditions, traffic volumes, and direct exposure to snowmobile emissions. This rule does not affect supply sleds attached by a rigid device or hitch pulled directly behind snowmobiles or other OSVs as long as no person or animal is hauled on them.

Section 7.13 (l)(14) What conditions apply to alcohol use while operating an OSV?

The final rule does not change the conditions applicable to the use of alcohol while operating OSVs. Although the regulations in 36 CFR 4.23, concerning the operation of motor vehicles in units of the National Park System while under the influence of alcohol or drugs, apply to snowmobiles under 36 CFR 2.18(a), the final rule maintains the additional regulations that address under-age drinking while operating a snowmobile, and operation under the influence by snowcoach or snowmobile guides while performing services for others. Many states have adopted similar alcohol standards for under-age and commercial operators, and the NPS believes it is necessary to specifically include these regulations to help mitigate potential safety concerns.

The alcohol level for anyone under the age of 21 is set at .02 Blood Alcohol Content (BAC). Although the NPS endorses “zero tolerance,” a very low BAC is established to avoid a chance of a false reading. Mothers Against Drunk Driving and many other organizations have endorsed such a general enforcement posture and the NPS agrees that under-age drinking and driving should not be allowed.

In the case of snowcoach or snowmobile guides, a low BAC limit is also necessary. Persons operating a snowcoach are likely to be carrying eight or more passengers in a vehicle. Vehicles on tracks or skis are more challenging to operate than wheeled vehicles, and travel on oversnow routes can present significant hazards, especially if the driver has impaired judgment. Similarly, persons guiding others on a snowmobile have put themselves in a position of responsibility for the safety of other visitors and for minimizing impacts to park wildlife and other resources. If the guide's judgment is impaired, hazards such as wildlife on the road or snow-obscured features could endanger all members of the group in an unforgiving climate. For these reasons, the final rule continues to require that all guides be held to a stricter than normal standard for alcohol consumption. Therefore, the final rule continues a BAC limit of .04 for snowcoach and snowmobile guides. This limit applies for both commercial guides and non-commercial guides. This is consistent with other federal and state rules pertaining to BAC thresholds for someone with a commercial driver's license.

Section 7.13 (l)(15) Do other NPS regulations apply to the use of OSVs?

The final rule does not change the applicability of other NPS regulations concerning OSV use. Relevant portions of 36 CFR 2.18, including § 2.18(c), have been incorporated into this final rule. Some portions of 36 CFR 2.18 and 2.19 are superseded by the final rule, which governs maximum operating decibels, operating hours, and operator age in this park only. In addition, 36 CFR 2.18(b), which adopts non-conflicting state snowmobile laws, does not apply in Yellowstone. The final rule also supersedes 36 CFR 2.19(b). Other provisions of 36 CFR Chapter I continue to apply to the operation of OSVs unless specifically superseded by the final rule.

Section 7.13 (l)(16) What forms of non-motorized oversnow transportation are allowed in the park?

Non-motorized travel consisting of skiing, skating, snowshoeing, and walking is generally permitted. The park has specifically prohibited dog sledding, bicycle use, and ski-joring (the practice of a skier being pulled by dogs, a horse, or a vehicle) to prevent disturbance or harassment to wildlife and for visitor safety. These restrictions have been in place for several years and are reaffirmed by this rule.

Section 7.13 (l)(17) May I operate a snowplane in Yellowstone National Park?

Snowplanes may not be used in Yellowstone National Park.

Section 7.13 (l)(18) Is violating a provision of this section prohibited?

Violating a term, condition, or requirement of paragraphs (l)(1) through (l)(17) of § 7.13 is prohibited.

Compliance With Other Laws, Executive Orders, and Department Policies

Regulatory Planning and Review (Executive Orders 12866 and 13563)

Executive Order 12866 provides that the Office of Information and Regulatory Affairs in the Office of Management and Budget will review all significant rules. The Office of Information and Regulatory Affairs has determined that this rule is significant.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. We have developed this rule in a manner consistent with these requirements.

Regulatory Flexibility Act (RFA)

This rule will not have a significant economic effect on a substantial number of small entities under the RFA (5 U.S.C. 601 et seq.). This certification is based on the cost-benefit and regulatory flexibility analysis found in the report entitled “Economic Analysis of Winter Use Regulations in Yellowstone National Park (March 2013)” which can be viewed on the park's planning Web site, http://parkplanning.nps.gov/yell, by clicking on the link entitled “2012/2013 Supplemental Winter Use Plan EIS,” and then clicking on the link entitled “Document List.”

From the analysis of costs and benefits using Baseline 1, the NPS concludes that the action alternatives will mitigate the impacts on most small businesses relative to the impacts under Baseline 1. In cases where the action alternatives cause reduced revenues for a few specific firms compared to Baseline 1, the NPS expects that the declines will be very small. From the analysis using Baseline 2, the NPS concludes the following points:

Relative to Baseline 2, Alternatives 3 and 4 are estimated to result in increased revenues for the snowmobile rental and snowcoach sectors.

Alternative 1 has the potential to generate significant losses for small businesses.

Small Business Regulatory Enforcement Fairness Act (SBREFA)

This rule is not a major rule under 5 U.S.C. 804(2), the SBREFA. This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises. This rulemaking has no effect on methods of manufacturing or production and specifically affects the Greater Yellowstone Area, not national or U.S.-based enterprises.

These conclusions are based upon the cost-benefit and regulatory flexibility analysis found in the report entitled “Economic Analysis of Winter Use Regulations in Yellowstone National Park (March 2013)” which can be viewed on the park's planning Web site, http://parkplanning.nps.gov/yell, by clicking on the link entitled “2012/2013 Supplemental Winter Use Plan EIS,” and then clicking on the link entitled “Document List.”

Unfunded Mandates Reform Act (UMRA)

This rule does not impose an unfunded mandate on State, local, or tribal governments or the private sector of more than $100 million per year. The rule does not have a significant or unique effect on State, local, or tribal governments or the private sector. It addresses public use of national park lands, and imposes no requirements on other agencies or governments. A statement containing the information required by the UMRA (2 U.S.C. 1531 et seq.) is not required.

Takings (Executive Order 12630)

This rule does not affect a taking of private property or otherwise have taking implications under Executive Order 12630. Access to private property located adjacent to the park will be afforded the same access during winter as before this rule. No other private property is affected. A takings implication assessment is not required.

Federalism (Executive Order 13132)

Under the criteria in section 1 of Executive Order 13132, the rule does not have sufficient federalism implications to warrant the preparation of a Federalism summary impact statement. It addresses public use of national park lands, and imposes no requirements on other agencies or governments. A Federalism summary impact statement is not required.

Civil Justice Reform (Executive Order 12988)

This rule complies with the requirements of Executive Order 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy)

The Department of the Interior strives to strengthen its government-to-government relationship with Indian Tribes through a commitment to consultation with Indian Tribes and recognition of their right to self-governance and tribal sovereignty. We have evaluated this rule under the Department's consultation policy and under the criteria in Executive Order 13175 and have determined that it has no substantial direct effects on federally recognized Indian tribes and that consultation under the Department's tribal consultation policy is not required. Numerous tribes in the area were consulted in the development of the previous winter use planning documents.

Paperwork Reduction Act (PRA)

An agency may not conduct or sponsor and a person is not required to respond to a collection of information unless it displays a currently valid Office of Management and Budget (OMB) control number. OMB has previously approved the information collection requirements associated with NPS special park use permits and assigned OMB Control Number 1024-0026, which expires August 31, 2016. When requirements for the Non-commercially Guided Snowmobile Access Program are developed, we will seek OMB approval, if necessary, for any new information collection requirements. OMB has reviewed and approved the following new reporting and recordkeeping requirements contained in this rule, and assigned OMB Control Number 1024-0266:

(1) To ensure that snowcoaches and snowmobiles meet NPS emission and sound standards, before the start of each winter season:

(a) Snowcoach manufacturers or commercial tour operators must demonstrate, by means acceptable to the Superintendent, that their snowcoaches meet the standards.

(b) Snowmobile manufacturers must demonstrate, by means acceptable to the Superintendent, that their snowmobiles meet the standards.

(2) So that we can monitor compliance with the required average and maximum size of transportation events, as of December 15, 2014, each commercial tour operator must:

(a) Maintain accurate and complete records of the number of snowmobile and snowcoach transportation events he or she brings into the park on a daily basis. These records must be made available for inspection by the park upon request.

(b) Submit a monthly report to the park that includes the information below about snowmobile and snowcoach use. We may require the report to be submitted more frequently than monthly if it becomes necessary to more closely monitor activities to protect natural or cultural resources in the park.

• Average group size for allocated transportation events during the previous month and for the winter season to date. Any transportation events that have been exchanged among commercial tour operators must be noted and the receiving party must include these transportation events in his or her reports.

• For each transportation event, the departure date, the duration of the trip (in days), the event type (snowmobile or snowcoach), the number of snowmobiles or snowcoaches, the number of visitors and guides, the route and primary destination(s), and if the transportation event allocation was from another commercial tour operator.

(3) To qualify for the increased average size of snowmobile transportation events or increased maximum size of snowcoach transportation events, each commercial tour operator must:

• Before the start of the winter season, demonstrate to the park superintendent that his or her snowmobiles or snowcoaches meet the enhanced emission standards.

• Maintain separate records for snowmobiles and snowcoaches that meet enhanced emission standards and those that do not.

During the proposed rule stage, we solicited comments on the above information collection requirements. We did not receive any comments pertaining to the information collection. We have discussed other comments received in the preamble above.

Title: Reporting and Recordkeeping for Snowcoaches and Snowmobiles, Yellowstone National Park, 36 CFR 7.13(l).

OMB Control Number: 1024-0266.

Service Form Number: None.

Description of Respondents: Commercial businesses operating OSVs in Yellowstone National Park, and OSV manufacturers.

Respondent's Obligation: Required to obtain or retain a benefit.

Frequency of Collection: Monthly for reports; ongoing for recordkeeping; annually to demonstrate that OSVs meet or exceed emission standards.

Estimated number of respondents: 17 (15 commercial tour operators and 2 manufacturers).

Activity | Estimated number of annual nresponses | Completion time per response (hours) | Estimated total annual burden hours *
Meet Emission/Sound Standards—Snowcoaches (7.13(l)(4)(vii)) | 12 | .5 | 6
Meet Emission/Sound Standards—Snowmobiles (7.13(l)(5)) | 2 | .5 | 1
Report and Recordkeeping (7.13(l)(11)(i)-(iii)) | 45 | 2 | 90
Meet Enhanced Emission Standards (7.13(l)(11)(iv)) | 5 | .5 | 3
Total | 64 |  | 100
* rounded.

You may send comments on any aspect of this information collection to the Information Collection Clearance Officer, National Park Service, 1849 C Street NW. (2601), Washington, DC 20240.

National Environmental Policy Act

This rule constitutes a major Federal action with the potential to significantly affect the quality of the human environment. We have prepared the Plan/SEIS under the National Environmental Policy Act of 1969. The Plan/SEIS is available by contacting the Yellowstone National Park Management Assistant's Office and online at http://parkplanning.nps.gov/yell, by clicking on the link entitled “2012/2013 Supplemental Winter Use Plan EIS,” and then clicking on the link entitled “Document List.”

Effects on the Energy Supply (Executive Order 13211)

This rule is not a significant energy action under the definition in Executive Order 13211. A statement of Energy Effects is not required.

Drafting Information

The primary authors of this regulation are: Jay P. Calhoun, Regulations Program Specialist; Russel J. Wilson, Chief, Regulations and Special Park Uses, National Park Service, Washington Office; David Jacob, Environmental Protection Specialist, National Park Service, Environmental Quality Division; and Wade M. Vagias, Management Assistant, Yellowstone National Park.

List of Subjects in 36 CFR Part 7

National parks, Reporting and recordkeeping requirements.

In consideration of the foregoing, the National Park Service amends 36 CFR Part 7 as follows:

PART 7—SPECIAL REGULATIONS, AREAS OF THE NATIONAL PARK SYSTEM

1. The authority for part 7 continues to read as follows:

Authority: 16 U.S.C. 1, 3, 9a, 462(k); Sec. 7.96 also issued under 36 U.S.C. 501-511, DC Code 10-137 (2001) and DC Code 50-2201.07 (2001).

2. In § 7.13 revise paragraph (l) to read as follows:

§ 7.13 Yellowstone National Park.

* * * * *

(l)(1) What is the scope of this regulation? The regulations contained in paragraphs (l)(2) through (l)(15) and (l)(18) of this section apply to the use of snowcoaches and snowmobiles by guides and park visitors. Except where indicated, paragraphs (l)(2) through (l)(15) do not apply to non-administrative oversnow vehicle use by affiliated persons.

(2) What terms do I need to know? The definitions in this paragraph (l)(2) also apply to non-administrative oversnow vehicle use by affiliated persons.

Affiliated persons means persons other than guides or park visitors. Affiliated persons include NPS employees, contractors, concessioner employees, their families and guests, or other persons designated by the Superintendent.

Commercial guide means a person who operates as a snowmobile or snowcoach guide for a monetary fee or other compensation and is authorized to operate in the park under a concession contract or a commercial use authorization.

Commercial tour operator means a person authorized to operate oversnow vehicle tours in the park under a concession contract or a commercial use authorization.

Enhanced emission standards means for snowmobiles, a maximum of 65 dB(A) as measured at cruising speed (approximately 35 mph) in accordance with the Society of Automotive Engineers (SAE) J1161 test procedures and certified under 40 CFR part 1051 to a Family Emission Limit no greater than 60 g/kW-hr for carbon monoxide; and for snowcoaches, a maximum of 71 dB(A) when measured by operating the snowcoach at cruising speed for the test cycle in accordance with the SAE J1161 test procedures.

Guide means a commercial guide or a non-commercial guide.

Non-commercial guide means a person who has successfully completed training and certification requirements established by the Superintendent that demonstrate the requisite knowledge and skills to operate a snowmobile in Yellowstone National Park. In order to be certified and receive a special use permit, a non-commercial guide must be at least 18 years of age by the day of the trip and possess a valid state-issued motor vehicle driver's license.

Non-commercially guided group means a group of no more than five snowmobiles, including a non-commercial guide, permitted to enter the park under the Non-commercially Guided Snowmobile Access Program.

Non-commercially Guided Snowmobile Access Program means a program that permits authorized parties to enter Yellowstone National Park without a commercial guide.

Oversnow route means that portion of the unplowed roadway located between the road shoulders and designated by snow poles or other poles, ropes, fencing, or signs erected to regulate oversnow activity. Oversnow routes include pullouts or parking areas that are groomed or marked similarly to roadways and are adjacent to designated oversnow routes. An oversnow route may also be distinguished by the interior boundaries of the berm created by the packing and grooming of the unplowed roadway.

Oversnow vehicle means a snowmobile, snowcoach, or other motorized vehicle that is intended for travel primarily on snow and has been authorized by the Superintendent to operate in the park. All-terrain vehicles and utility-type vehicles are not oversnow vehicles, even if they have been modified for use on snow with track or ski systems

Snowcoach means a self-propelled mass transit vehicle intended for travel on snow, having a curb weight of over 1,000 pounds (450 kilograms), having a capacity of at least eight passengers and no more than 32 passengers, plus a driver.

Snowcoach transportation event means one snowcoach that does not meet enhanced emission standards traveling in Yellowstone National Park on any given day, or two snowcoaches that both meet enhanced emission standards traveling together in Yellowstone National Park on any given day.

Snowmobile means a self-propelled vehicle intended for travel solely on snow, with a maximum curb weight of 1,000 pounds (450 kilograms), driven by a track or tracks in contact with the snow, and which may be steered by a ski or skis in contact with the snow.

Snowmobile transportation event means a group of 10 or fewer commercially guided snowmobiles traveling together in Yellowstone National Park on any given day or a non-commercially guided group, which is defined separately. Snowmobiles entering Cave Falls Road are not considered snowmobile transportation events.

Snowplane means a self-propelled vehicle intended for oversnow travel and driven by an air-displacing propeller.

Transportation event means a snowmobile transportation event or a snowcoach transportation event.

(3) When may I operate a snowmobile in Yellowstone National Park? You may operate a snowmobile in Yellowstone National Park each winter season only in compliance with use limits, guiding requirements, operating hours, equipment, and operating conditions established under this section. The operation of snowmobiles under a concessions contract or commercial use authorization is subject to the conditions stated in the concessions contract or commercial use authorization. The Superintendent may establish additional operating conditions after providing notice of those conditions in accordance with one or more methods listed in 36 CFR 1.7.

(4) When may I operate a snowcoach in Yellowstone National Park? (i) A snowcoach may be operated in Yellowstone National Park only under a concessions contract or commercial use authorization each winter season. Snowcoach operation is subject to the conditions stated in the concessions contract or commercial use authorization and all other conditions identified in this section. The Superintendent may establish additional operating conditions, including performance-based emission standards for snowcoaches, after providing notice of those conditions in accordance with one or more methods listed in 36 CFR 1.7.

(ii) The requirements in paragraphs (l)(4)(iii) through (iv) of this section apply to:

(A) new snowcoaches put into service on or after December 15, 2014;

(B) snowcoaches used in lieu of snowmobile transportation events during the 2014-2015 and 2015-2016 winter seasons; and

(C) all existing snowcoaches as of December 15, 2016.

(iii) The following air emission requirements apply to snowcoaches:

A snowcoach that is a . . . | must meet the following standard . . .
(A) Diesel-fueled snowcoach with a gross vehicle weight rating (GVWR) less than 8,500 pounds | The functional equivalent of 2010 (or newer) EPA Tier 2 model year engine and emission control technology requirements.
(B) Diesel-fueled snowcoach with a GVWR greater than or equal to 8,500 pounds | The EPA model year 2010 “engine configuration certified” diesel air emission requirements. Alternately, a snowcoach in this category may be certified under the functional equivalent of 2010 (or newer) EPA Tier 2 model year engine and emission control technology requirements if the snowcoach: (1) Has a GVWR between 8,500 and 10,000 pounds; and (2) Would achieve better emission results with a configuration that meets the Tier 2 requirements.
(C) Gasoline-fueled snowcoach greater than or equal to 10,000 GVWR | The functional equivalent of 2008 (or newer) EPA Tier 2 model year engine and emission control technology requirements.
(D) Gasoline-fueled snowcoach less than 10,000 GVWR | The functional equivalent of 2007 (or newer) EPA Tier 2 model year engine and emission control technology requirements.

(iv) A snowcoach may not exceed a sound level of 75 dB(A) when measured by operating the snowcoach at 25 mph, or at its maximum cruising speed if that is less than 25 mph, for the test cycle in accordance with the SAE J1161 test procedures.

(v) All emission-related exhaust components (as listed in the applicable portion of 40 CFR 86.004-25) must function properly. These emission-related components must be replaced with the original equipment manufacturer (OEM) component, if practicable. If OEM parts are not available, aftermarket parts may be used.

(vi) Operating a snowcoach with the original pollution control equipment disabled or modified is prohibited.

(vii) Before the start of a winter season, a snowcoach manufacturer or a commercial tour operator must demonstrate, by means acceptable to the Superintendent, that a snowcoach meets the air and sound emission standards. The NPS will test and certify snowcoaches for compliance with air and sound emission requirements at locations in the park. A snowcoach meeting the requirements for air and sound emissions may be operated in the park through the winter season that begins no more than 10 years from the engine manufacture date, or longer if the snowcoach is certified to meet performance-based emission standards established by the Superintendent under paragraph (l)(4)(i) of this section.

(viii) Snowcoaches are subject to periodic and unannounced inspections to determine compliance with the requirements of paragraph (l)(4) of this section.

(ix) This paragraph (l)(4) also applies to non-administrative oversnow vehicle use by affiliated persons.

(5) Must I operate a certain model of snowmobile? Only snowmobiles that meet NPS air and sound emissions requirements in this section may be operated in the park. Before the start of a winter season, a snowmobile manufacturer must demonstrate, by means acceptable to the Superintendent, that a snowmobile meets the air and sound emission standards. The Superintendent will approve snowmobile makes, models, and years of manufacture that meet those requirements. Any snowmobile model not approved by the Superintendent may not be operated in the park.

(6) What standards will the Superintendent use to approve snowmobile makes, models, and years of manufacture for use in the park? (i) Snowmobiles must meet the following air emission requirements:

(A) Through March 15, 2015, all snowmobiles must be certified under 40 CFR part 1051 to a Family Emission Limit no greater than 15 g/kW-hr for hydrocarbons and to a Family Emission Limit no greater than 120 g/kW-hr for carbon monoxide.

(B) As of December 15, 2015, all snowmobiles must be certified under 40 CFR part 1051 to a Family Emission Limit no greater than 15 g/kW-hr for hydrocarbons and to a Family Emission Limit no greater than 90 g/kW-hr for carbon monoxide.

(ii) Snowmobiles must meet the following sound emission requirements:

(A) Through March 15, 2015, snowmobiles must operate at or below 73 dB(A) as measured at full throttle according to SAE J192 test procedures (revised 1985). During this period, snowmobiles may be tested at any barometric pressure equal to or above 23.4 inches Hg uncorrected.

(B) As of December 15, 2015, snowmobiles must operate at or below 67 dB(A) as measured at cruising speed (approximately 35mph) in accordance with SAE J1161 test procedures. Sound emissions tests must be accomplished within the barometric pressure limits of the test procedure; there will be no allowance for elevation. A population of measurements for a snowmobile model may not exceed a mean output of 67 dB(A), and a single measurement may not exceed 69 dB(A). The Superintendent may revise these testing procedures based on new information or updates to the SAE J1161 testing procedures.

(iii) A snowmobile meeting the requirements for air and sound emissions may be operated in the park for a period not exceeding six years from the manufacturing date, or after the snowmobile has travelled 6,000 miles, whichever occurs later.

(iv) Operating a snowmobile that has been modified in a manner that may adversely affect air or sound emissions is prohibited.

(v) These air and sound emissions requirements do not apply to snowmobiles operated on the Cave Falls Road in the park.

(vi) Snowmobiles are subject to periodic and unannounced inspections to determine compliance with the requirements of paragraph (l)(6) of this section.

(vii) This paragraph (l)(6) also applies to non-administrative oversnow vehicle use by affiliated persons.

(7) Where may I operate a snowmobile in Yellowstone National Park? (i) You may operate an authorized snowmobile only upon designated oversnow routes established within the park in accordance with 36 CFR 2.18(c). The following oversnow routes are so designated:

(A) Entrance roads: from the parking lot at Upper Terrace Drive south of Mammoth Hot Springs to Norris Junction, from the park boundary at West Yellowstone to Madison Junction, from the South Entrance to West Thumb, and from the East Entrance to junction with the Grand Loop Road.

(B) Grand Loop Road segments: from Norris Junction to Madison Junction, from Madison Junction to West Thumb, from West Thumb to the junction with the East Entrance Road, from Norris Junction to Canyon Junction, and from Canyon Junction to the junction with the East Entrance Road.

(C) Side roads: South Canyon Rim Drive, Lake Butte Road, Firehole Canyon Drive, North Canyon Rim Drive, and Riverside Drive.

(D) Developed area roads in the areas of Madison Junction, Old Faithful, Grant Village, West Thumb, Lake, East Entrance, Fishing Bridge, Canyon, Indian Creek, and Norris.

(ii) The Superintendent may open or close these oversnow routes, or portions thereof, for snowmobile travel after taking into consideration the location of wintering wildlife, appropriate snow cover, public safety, avalanche conditions, resource protection, park operations, use patterns, and other factors. The Superintendent will provide public notice of any opening or closing by one or more of the methods listed in 36 CFR 1.7.

(iii) This paragraph (l)(7) also applies to non-administrative oversnow vehicle use by affiliated persons.

(iv) Maps detailing the designated oversnow routes are available at Park Headquarters.

(8) What routes are designated for snowcoach use? (i) Authorized snowcoaches may be operated on the routes designated for snowmobile use in paragraph (l)(7)(i) of this section. Snowcoaches may be operated on the Grand Loop Road from Canyon Junction to the Washburn Hot Springs Overlook. In addition, rubber-tracked snowcoaches may be operated from the park entrance at Gardiner, MT, to the parking lot of Upper Terrace Drive and in the Mammoth Hot Springs developed area.

(ii) The Superintendent may open or close these oversnow routes, or portions thereof, after taking into consideration the location of wintering wildlife, appropriate snow cover, public safety, avalanche conditions, resource protection, park operations, use patterns, and other factors. The Superintendent will provide public notice of any opening or closing by one of more of the methods listed in 36 CFR 1.7.

(iii) This paragraph (l)(8) also applies to non-administrative snowcoach use by affiliated persons.

(9) Must I travel with a guide while snowmobiling in Yellowstone and what other guiding requirements apply? (i) All visitors operating snowmobiles in the park must be accompanied by a guide.

(ii) Unguided snowmobile access is prohibited.

(iii) The Superintendent will establish the requirements, including training and certification requirements for commercial guides and non-commercial guides and accompanying snowmobile operators.

(iv) Guided parties must travel together within one-third of a mile of the first snowmobile in the group.

(v) Snowmobiles operated by non-commercial guides must be clearly marked so that park personnel can easily ascertain which snowmobiles in the park are part of a non-commercially guided group.

(vi) Non-commercial guides must obtain a special use permit from the Non-commercially Guided Snowmobile Access Program prior to entering the park with a non-commercially guided group.

(vii) The guiding requirements described in this paragraph (l)(9) do not apply to Cave Falls Road.

(10) Are there limits upon the number of snowmobiles and snowcoaches permitted to operate in the park each day? As of December 15, 2014, the number of snowmobiles and snowcoaches permitted to operate in the park each day will be managed by transportation events, as follows:

(i) A transportation event consists of a group of no more than 10 snowmobiles (including the snowmobile operated by the guide) or 1 snowcoach (unless enhanced emission standards allow for 2).

(ii) No more than 110 transportation events may occur in Yellowstone National Park on any given day.

(iii) No more than 50 of the 110 transportation events allowed each day may be snowmobile transportation events.

(iv) Four of the 50 snowmobile transportation events allowed each day are reserved for non-commercially guided groups, with one such group allowed per entrance per day. The Superintendent may adjust or terminate the Non-commercially Guided Snowmobile Access Program, or redistribute non-commercially guided transportation events, based upon impacts to park resources, park operations, utilization rates, visitor experiences, or other factors, after providing public notice in accordance with one or more methods listed in 36 CFR 1.7.

(v) Transportation events allocated to commercial tour operators may be exchanged among commercial tour operators, but only for the same entrance or location.

(vi) Commercial tour operators may decide whether to use their daily allocations of transportation events for snowmobiles or snowcoaches, subject to the limits in this section.

(vii) Transportation events may not exceed the maximum number of oversnow vehicles allowed for each transportation event.

(viii) Snowmobile transportation events conducted by a commercial tour operator may not exceed an average of 7 snowmobiles, averaged over the winter season. However, snowmobile transportation events conducted by a commercial tour operator that consist entirely of snowmobiles meeting enhanced emission standards may not exceed an average of 8 snowmobiles, averaged over the winter season. For the 2014-2015 winter season only, snowmobile transportation events conducted by a commercial tour operator that consist of any snowmobile that does not meet the air emission requirements in paragraph (l)(6)(i)(B) of this section or the sound emission requirements in paragraph (l)(6)(ii)(B) of this section may not exceed an average of 7 snowmobiles, averaged daily.

(ix) Snowcoach transportation events that consist entirely of snowcoaches meeting enhanced emission standards may not exceed an average of 1.5 snowcoaches, averaged over the winter season.

(x) A commercial tour operator that is allocated a transportation event, but does not use it or exchange it can count that event as “0” against that commercial tour operator's daily and seasonal averages. A commercial tour operator that receives a transportation event from another concessioner, but does not use it, may also count that event as “0” against its daily and seasonal averages.

(xi) Up to 50 snowmobiles may enter Cave Falls Road each day.

(xii) Daily allocations and entrance distributions for transportation events are listed in the following table:

Daily Transportation Event Entry Limits by Park Entrance/Location
Park entrance/location | Commercially guided snowmobile transportation events | Non-commercially guided snowmobile transportation events | Snowcoach transportation events if all 50 snowmobile transportation events are used | Snowcoach transportation events if zero commercially guided snowmobile transportation events are used*
West Entrance | 23 | 1 | 26 | 49
South Entrance | 17 | 1 | 8 | 25
East Entrance | 2 | 1 | 1 | 3
North Entrance | 2 | 1 | 13 | 15
Old Faithful | 2 | 0 | 12 | 14
Total | 46 | 4 | 60 | 106
* The remaining 4 transportation events are reserved for non-commercially guided snowmobiles.

(xiii) The Superintendent may decrease the maximum number of transportation events allowed in the park each day, or make limited changes to the transportation events allocated to each entrance, after taking into consideration the location of wintering wildlife, appropriate snow cover, public safety, avalanche conditions, park operations, utilization rates, visitor experiences, or other factors. The Superintendent will provide public notice of changes by one or more of the methods listed in 36 CFR 1.7.

(xiv) For the 2013-2014 winter season only, the number of snowmobiles and snowcoaches allowed to operate in the park each day is limited to a certain number per entrance or location as set forth in the following table. During this period, all snowmobiles operated by park visitors must be accompanied by a commercial guide. Snowmobile parties must travel in a group of no more than 11 snowmobiles, including the guide.

Number of Snowmobiles and Snowcoaches Allowed in the Park on Any Day by Park Entrance/Location for the 2013-2014 Winter Season
Park entrance/location | Commercially guided snowmobiles | Commercially guided snowcoaches
West Entrance | 160 | 34
South Entrance | 114 | 13
East Entrance | 20 | 2
North Entrance * | 12 | 13
Old Faithful * | 12 | 16
* Commercially guided snowmobile tours originating at the North Entrance and Old Faithful are currently provided solely by one concessioner. Because this concessioner is the sole provider at both of these areas, this regulation allows reallocation of snowmobiles between the North Entrance and Old Faithful as necessary, so long as the total daily number of snowmobiles originating from the two locations does not exceed 24. For example, the concessioner could operate 6 snowmobiles at Old Faithful and 18 at the North Entrance if visitor demand warranted it. This will allow the concessioner to respond to changing visitor demand for commercially guided snowmobile tours, thus enhancing the availability of visitor services in Yellowstone.

(xv) Paragraph (l)(10)(xiv) remains in effect until March 15, 2014.

(11) How will the park monitor compliance with the required average and maximum size of transportation events? As of December 15, 2014:

(i) Each commercial tour operator must maintain accurate and complete records of the number of transportation events it has brought into the park on a daily basis.

(ii) The records kept by commercial tour operators under paragraph (l)(11)(i) of this section must be made available for inspection by the park upon request.

(iii) Each commercial tour operator must submit a monthly report to the park that includes the information below about snowmobile and snowcoach use. We may require the report to be submitted more frequently than monthly if it becomes necessary to more closely monitor activities to protect natural or cultural resources in the park.

(A) Average group size for allocated transportation events during the previous month and for the winter season to date. Any transportation events that have been exchanged among commercial tour operators must be noted and the receiving party must include these transportation events in its reports.

(B) For each transportation event; the departure date, the duration of the trip (in days), the event type (snowmobile or snowcoach), the number of snowmobiles or snowcoaches, the number of visitors and guides, the entrance used, route, and primary destinations, and if the transportation event allocation was from another commercial tour operator.

(iv) To qualify for the increased average size of snowmobile transportation events or increased maximum size of snowcoach transportation events, a commercial tour operator must:

(A) Demonstrate before the start of a winter season, by means acceptable to the Superintendent, that his or her snowmobiles or snowcoaches meet the enhanced emission standards; and

(B) Maintain separate records for snowmobiles and snowcoaches that meet enhanced emission standards and those that do not to allow the park to measure compliance with required average and maximum sizes of transportation events.

(12) How will I know when I can operate a snowmobile or snowcoach in the park? The Superintendent will:

(i) Determine the start and end dates of the winter season, which will begin no earlier than December 15 and end no later than March 15 each year. The Superintendent will consider appropriate factors when determining the length of the winter season, including adequate snow cover, the location of wintering wildlife, public safety, resource protection, park operations, and use patterns. Based upon these factors, the Superintendent may determine that there will be no winter season for oversnow vehicles or that certain areas of the park may be closed to public OSV use.

(ii) Determine operating hours, dates, and use levels.

(iii) Notify the public of the start and end dates of the winter season, operating hours, dates, use levels, and any applicable changes through one or more of the methods listed in § 1.7 of this chapter.

(iv) Except for emergency situations, announce annually any changes to the operating hours, dates, and use levels.

(13) What other conditions apply to the operation of oversnow vehicles? (i) The following are prohibited:

(A) Idling an oversnow vehicle for more than three minutes at any one time.

(B) Driving an oversnow vehicle while the driver's motor vehicle license or privilege is suspended or revoked.

(C) Allowing or permitting an unlicensed driver to operate an oversnow vehicle.

(D) Driving an oversnow vehicle with disregard for the safety of persons, property, or park resources, or otherwise in a reckless manner.

(E) Operating an oversnow vehicle without a lighted white headlamp and red taillight.

(F) Operating an oversnow vehicle that does not have brakes in good working order.

(G) The towing of persons on skis, sleds, or other sliding devices by oversnow vehicles, except for emergency situations.

(H) Racing snowmobiles, or operating a snowmobile in excess of 35 mph, or operating a snowmobile in excess of any lower speed limit in effect under § 4.21(a)(1) or (2) of this chapter or that has been otherwise designated.

(I) Operating a snowcoach in excess of 25 mph, or operating a snowcoach in excess of any lower speed limit in effect under § 4.21(a)(1) or (2) of this chapter or that has been otherwise designated.

(ii) The following are required:

(A) All oversnow vehicles that stop on designated routes must pull over to the far right and next to the snow berm. Pullouts must be used where available and accessible. Oversnow vehicles may not be stopped in a hazardous location or where the view might be obscured. Oversnow vehicles may not be operated so slowly as to interfere with the normal flow of traffic.

(B) Oversnow vehicle drivers must possess and carry at all times a valid government-issued motor vehicle driver's license. A learner's permit does not satisfy this requirement.

(C) Equipment sleds towed by a snowmobile must be pulled behind the snowmobile and fastened to the snowmobile with a rigid hitching mechanism.

(D) Snowmobiles must be properly registered in the U.S. State or Canadian Province of principal use and must display a valid registration.

(E) The only motor vehicles permitted on oversnow routes are oversnow vehicles.

(F) An oversnow vehicle that does not meet the definition of a snowcoach must comply with all requirements applicable to snowmobiles.

(iii) The Superintendent may impose other terms and conditions as necessary to protect park resources, visitors, or employees. The Superintendent will notify the public of any changes through one or more methods listed in § 1.7 of this chapter.

(iv) This paragraph (l)(13) also applies to non-administrative oversnow vehicle use by affiliated persons.

(14) What conditions apply to alcohol use while operating an oversnow vehicle? In addition to 36 CFR 4.23, the following conditions apply:

(i) Operating or being in actual physical control of an oversnow vehicle is prohibited when the operator is under 21 years of age and the alcohol concentration in the operator's blood or breath is 0.02 grams or more of alcohol per 100 milliliters of blood, or 0.02 grams or more of alcohol per 210 liters of breath.

(ii) Operating or being in actual physical control of an oversnow vehicle is prohibited when the operator is a guide and the alcohol concentration in the operator's blood or breath is 0.04 grams or more of alcohol per 100 milliliters of blood or 0.04 grams or more of alcohol per 210 liters of breath.

(iii) This paragraph (1)(14) also applies to non-administrative oversnow vehicle use by affiliated persons.

(15) Do other NPS regulations apply to the use of oversnow vehicles? (i) The use of oversnow vehicles in Yellowstone National Park is subject to §§ 2.18(a) and (c), but not subject to §§ 2.18(b), (d), (e), and 2.19(b) of this chapter.

(ii) This paragraph (l)(15) also applies to non-administrative oversnow vehicle use by affiliated persons.

(16) What forms of non-motorized oversnow transportation are allowed in the park?

(i) Non-motorized travel consisting of skiing, skating, snowshoeing, or walking is permitted unless otherwise restricted under this section or other NPS regulations.

(ii) The Superintendent may designate areas of the park as closed, reopen previously closed areas, or establish terms and conditions for non-motorized travel within the park in order to protect visitors, employees, or park resources. The Superintendent will notify the public in accordance with § 1.7 of this chapter.

(iii) Dog sledding and ski-joring (a skier being pulled by a dog, horse, or vehicle) are prohibited. Bicycles, including bicycles modified for oversnow travel, are prohibited on oversnow routes in Yellowstone National Park.

(17) May I operate a snowplane in Yellowstone National Park? The operation of a snowplane in Yellowstone National Park is prohibited.

(18) Is violating a provision of this section prohibited? (i) Violating a term, condition, or requirement of paragraph (l) of this section is prohibited.

(ii) Violation of a term, condition, or requirement of paragraph (l) of this section by a guide may also result in the administrative revocation of guiding privileges.

(19) Have the information collection requirements been approved? The Office of Management and Budget has reviewed and approved the information collection requirements in paragraph (l) and assigned OMB Control No. 1024-0266. We will use this information to monitor compliance with the required average and maximum size of transportation events. The obligation to respond is required in order to obtain or retain a benefit.

* * * * *

Rachel Jacobson,
Principal Deputy Assistant Secretary for Fish and Wildlife and Parks.

[FR Doc. 2013-24238 Filed 10-22-13; 8:45 am]

BILLING CODE 4312-EJ-P